ENVIRONMENTAL PROTECTION AGENCY

40 CFR Part 63

[FRL-7375-9]

RIN 2060-AJ34

National Emission Standards for Hazardous Air Pollutants for Pesticide Active Ingredient Production

AGENCY: Environmental Protection Agency (EPA).

ACTION: Final rule; amendments.

SUMMARY: On June 23, 1999, EPA promulgated national emission standards for hazardous air pollutants (NESHAP) for Pesticide Active Ingredient (PAI) Production. On August 19, 20, and 23, 1999, petitions for judicial review of the June 1999 rule were filed in the U.S. Court of Appeals for the District of Columbia Circuit. The amendments proposed on April 10, 2002 were in response to issues raised by two of those petitioners—the American Crop Protection Association (ACPA) and the American Cyanamid Company (now BASF Corporation). In this action, EPA takes final action on those proposed amendments to the rule to address issues raised by petitioners and to correct inconsistencies that have been discovered since EPA originally promulgated the rule.

EFFECTIVE DATE: September 20, 2002.

ADDRESSES: Docket No. A-95-20 contains supporting information used in developing these MACT standards. All dockets are located at the U.S. EPA, Air and Radiation Docket and Information Center, Mail Code 6102T, 1301 Constitution Avenue, NW., Room B108, Washington, DC 20460, and may be inspected from 8:30 a.m. to 5:30 p.m., Monday through Friday, excluding legal holidays.

FOR FURTHER INFORMATION CONTACT: Mr. Randy McDonald, Organic Chemicals Group, Emission Standards Division (Mail Code C504-04), U.S. EPA, Research Triangle Park, North Carolina 27711, telephone number (919) 541-5402, electronic mail address mcdonald.randy@epa.gov.

SUPPLEMENTARY INFORMATION: Docket. The docket is an organized and complete file of the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket, excluding interagency review materials, will serve as the record in the case of judicial review. (See section 307(d)(7)(A) of the Clean Air Act (CAA).) The regulatory text and other materials related to this rulemaking are available for review in the docket or copies may be mailed on request from the Air Docket by calling (202) 260-7548. A reasonable fee may be charged for copying docket materials.

Judicial Review. Under Section 307(b)(1) of the CAA, judicial review of this final action is available only on the filing of a court petition for review in the U.S. Court of Appeals for the District of Columbia Circuit by November 19, 2002. Under Section 307(b)(2) of the CAA, the requirements established by these final rule amendments may not be challenged later in civil or criminal proceedings brought by EPA to enforce these requirements.

Worldwide Web (WWW). In addition to being available in the docket, an electronic copy of this action will also be available on the WWW through the Technology Transfer Network (TTN). Following signature, a copy of this action will be posted on the EPA's TTN policy and guidance page for newly proposed or promulgated rules http://www.epa.gov/ttn/oarpg. The TTN at EPA's web site provides information and technology exchange in various areas of air pollution control. If more information regarding the TTN is needed, call the TTN HELP line at (919) 541-5384.

Regulated Entities. The regulated category and entities affected by this action include:

Category | NAICS codes | SIC codes | Examples of regulated entities
Industry | Typically, 325199 and 325320 | Typically, 2869 and 2879 | • Producers of pesticide active ingredients that contain organic compounds that are used in herbicides, insecticides, or fungicides.
|  |  | • Producers of any integral intermediate used in onsite production of an active ingredient used in an herbicide, insecticide, or fungicide.

This table is not intended to be exhaustive, but rather provides a guide for readers likely to be interested in the revisions to the rule affected by this action. To determine whether your facility, company, business, organization, etc., is regulated by this action, you should carefully examine all of the applicability criteria in § 63.1360 of the rule, as well as in today's final action applicability sections. If you have questions regarding the applicability of this action to a particular entity, consult the person listed in the preceding FOR FURTHER INFORMATION CONTACT section.

Outline. The information presented in this preamble is organized as follows:

I. What Is the History of the PAI Production NESHAP?

II. What Types of Public Comments Were Received on the April 10, 2002 Proposal?

III. What Changes Were Made for the Final Amendments?

A. Technical Clarifications

B. Minor Technical Corrections

IV. What Are the Administrative Requirements for the Proposed Amendments?

A. Executive Order 12866, Regulatory Planning and Review

B. Executive Order 13132, Federalism

C. Executive Order 13175, Consultation and Coordination With Indian Tribal Governments

D. Executive Order 13045, Protection of Children for Environmental Health Risks and Safety Risks

E. Unfunded Mandates Reform Act of 1995

F. Regulatory Flexibility Act (RFA), as Amended by the Small Business Regulatory Enforcement Fairness Act of 1996 (SBREFA), 5 U.S.C. 601 et seq.

G. Paperwork Reduction Act

H. National Technology Transfer and Advancement Act

I. The Congressional Review Act

J. Executive Order 13211, Actions Concerning Regulations That Significantly Affect Energy Supply, Distribution, or Use

I. What Is the History of the PAI Production NESHAP?

On June 23, 1999, we promulgated NESHAP for PAI Production as subpart MMM in 40 CFR part 63 (64 FR 33550). The American Crop Protection Association and American Cyanamid Company (now BASF Corporation) filed petitions for judicial review of the promulgated PAI Production NESHAP in the U.S. Court of Appeals for the District of Columbia Circuit, ACPA v. EPA, No. 99-1332, and American Cyanamid Company v. EPA, No. 99-1334 (Consolidated with ACPA v. EPA, No. 99-1332) (D.C. Cir.). The petitioners raised issues regarding the applicability of the rule, the alternative standard, alternatives to the standard for storage vessels, outlet concentration standards, procedures for calculating emissions averaging credits, initial compliance requirements for condensers, and performance testing over an entire batch cycle.

On January 18, 2002, ACPA and EPA signed a settlement agreement, which required us to propose amendments to the PAI Production NESHAP and include preamble discussion to clarify various issues raised by petitioners. Notice of this agreement was published in the Federal Register on February 4, 2002 (67 FR 5116) pursuant to the requirements of CAA section 113(g).

On April 10, 2002, we proposed amendments to address the issues raised by ACPA and BASF Corporation and included additional corrections and clarifications to ensure that the rule is implemented as intended. Some of the proposed amendments provided new compliance options and other new provisions that would reduce the burden associated with demonstrating compliance.

II. What Types of Public Comments Were Received on the April 10, 2002 Proposal?

Two comment letters were received on the April 10, 2002 proposed amendments to the rule. Comment letters were received from the U.S. Department of the Interior and CropLife America (CLA), formerly the American Crop Protection Association. In general, the comment letters were supportive and raised no significant issues. However, one of the comment letters included suggested editorial revisions to address clarity concerns and to correct errors in cross referencing other sections in the rule. We considered and agree with these suggestions and have made changes for the final amendments.

III. What Changes Were Made for the Final Amendments?

This preamble describes changes that address public comments on the proposed amendments and additional changes that clarify requirements and improve consistency with other rules.

A. Technical Clarifications

The preamble to the proposed amendments described several changes we were considering to improve the clarity of the rule, which were in addition to the proposed rule amendments resulting from the settlement agreement. We solicited public comments on these changes and we received none, so today's final rule amendments include these changes. The changes involve emissions averaging, initial compliance procedures for condensers, the duration of performance test runs, performance test requirements for large control devices, and monitoring provisions for the alternative standard.

1. Emissions Averaging

As described in the preamble to the proposed amendments, the emissions averaging provisions were intended to parallel the requirements in the Hazardous Organic NESHAP (HON). However, after making the changes for the settlement agreement, we realized that § 63.1362(h)(2) still differs from the HON in two ways. First, § 63.1362(h)(2) does not contain a requirement consistent with the HON's requirement that the control technology be approved for use in a manner that differs from the reference control technology. Since subpart MMM does not use the term “reference control technology,” we are adding language to § 63.1362(h)(2) to require that the control technology must be approved for use in a manner different from that otherwise required by the rule.

Second, the proposed changes to § 63.1362(h)(2)(iii) address two components from the HON's definition of reference control technology for wastewater, but they do not address the requirement that emissions from the design steam stripper be controlled by 95 percent. Without this component in § 63.1362(h)(2)(iii), no credits could be calculated for wastewater streams treated in a design steam stripper. Therefore, we are revising § 63.1362(h)(2)(iii) to specify that credits may not be calculated if wastewater streams are managed as specified in §§ 63.133 through 63.137, treated in a design steam stripper, and emissions from the design steam stripper are controlled in a device that meets the percent reduction requirements specified in § 63.139(c). This change means that credits can be calculated if the emissions from the design steam stripper are controlled using a device that has been approved for use in a different manner and assigned a nominal control efficiency greater than 95 percent.

2. Initial Compliance Procedures for Condensers Used To Control Process Vents

Section 63.1365(c)(3)(iii) specifies initial compliance procedures for determining controlled emissions from condensers used to control process vents. For the final amendments, we are deleting the requirement to measure the temperature as part of the initial compliance demonstration and instead, allow the temperature to be determined through engineering design evaluations, as required in § 63.1365(a)(1)(iii). The owner or operator would then use that temperature to calculate the controlled emissions as part of the initial compliance determination. Temperature measurement is only required as part of the monitoring requirements to demonstrate ongoing compliance.

3. Test Duration Requirements for Batch Operations

According to § 63.1365(b)(11)(iv) of the proposed amendments, the maximum duration of a test run may be either 24 hours or the duration of the longest batch controlled by the control device, whichever is shorter. The paragraph goes on to specify that each test run must “include the same absolute or hypothetical peak-case conditions, as defined in paragraph (b)(11)(i) or (ii) of this section.” We are amending this paragraph differently than we did at proposal to specify different test run duration limits depending on the format of the standard with which the owner or operator complies.

To demonstrate compliance with the percent reduction standard, the duration of test runs needs to be limited, only to the extent that the test run does not exceed the duration of the averaging period used in demonstrating ongoing compliance. Therefore, we are limiting the duration of test runs to 24 hours or the duration of the longest batch controlled by the control device, whichever is shorter. As we noted in the preamble to the proposed amendments, a consequence of this limitation is that, if the batch cycle exceeds 24 hours, an owner or operator may not take advantage of the exemption from developing an emission profile because the test could not be conducted over the entire batch cycle in this case.

On the other hand, for tests to demonstrate compliance with the outlet concentration limit, we are limiting the duration of test runs to the applicable peak-case conditions (i.e., 1 hour or up to 8 hours) because of the potential that a large number of low concentrations could be averaged in with high concentrations from a short period during the cycle, thereby rendering meaningless the concept of demonstrating compliance over peak-case conditions.

4. Performance Test Requirements for Large Control Devices

Section 63.1365(c)(3)(ii)(A) specifies measurement requirements for performance tests used to demonstrate percent reduction levels for large control devices. We edited the language to make it easier to read and understand. The meaning is unchanged.

5. Monitoring for the Alternative Standard

We have made a minor technical correction to eliminate an internal conflict in the monitoring provisions for the alternative standard. Specifically, the phrase “98 percent or less” in § 63.1366(b)(5)(ii)(A)(2) overlaps with the phrase “95 percent or less” in § 63.1366(b)(5)(ii)(A)(1). Since there are no requirements to control in the range greater than 95 percent to less than 98 percent, we have replaced the phrase “98 percent or less” with “98 percent” for the final amendments.

B. Minor Technical Corrections

One commenter suggested changes to correct a citation and to clarify the definition of a term for one equation. We concur with the suggestions and have made both changes. The sections and the associated changes are:

• Section 63.1361—We replaced the incorrect reference to § 63.1365(b)(2)(ii) with the correct reference to § 63.1365(c)(2)(ii) in the definition of “process vent.”

• Section 63.1365(a)(2)—We revised the definition of the term “CGT” in Equation 6 to read “CGT = total concentration of TOC or organic HAP in vented gas stream, average of samples, dry basis, ppmv.” The change makes it clear that the equation may be used to calculate concentrations of either total organic carbon (TOC) or organic hazardous air pollutants (HAP), not just TOC, and it makes the definition consistent with the text in § 63.1365(a)(2).

IV. What Are the Administrative Requirements for the Amendments?

A. Executive Order 12866, Regulatory Planning and Review

Under Executive Order 12866 (58 FR 51735, October 4, 1993), EPA must determine whether the regulatory action is “significant” and therefore subject to Office of Management and Budget (OMB) review and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in the Executive Order.

It has been determined that these amendments do not constitute a “significant regulatory action” under the terms of Executive Order 12866. Consequently, this action was not subject to OMB review.

B. Executive Order 13132, Federalism

Executive Order 13132 (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Today's final amendments do not have federalism implications. They will not have substantial direct effects on the States, on the relationship between the national government and the States, or on the distribution of power and responsibilities among the various levels of government, as specified in Executive Order 13132, because State and local governments do not own or operate any sources that would be subject to this rule. Thus, Executive Order 13132 does not apply to today's action.

C. Executive Order 13175, Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.”

The final rule does not have tribal implications, as specified in Executive Order 13175. Thus, Executive Order 13175 does not apply to today's final amendments.

D. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by EPA.

The EPA interprets Executive Order 13045 as applying only to those regulatory actions that are based on health or safety risks, such that the analysis required under section 5-501 of the Executive Order has the potential to influence the regulation. Today's amendments are not subject to Executive Order 13045 because they are based on technology performance, not health or safety risks. Furthermore, the final rule has been determined not to be “economically significant” as defined under Executive Order 12866.

E. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least-costly, most cost-effective, or least burdensome alternative that achieves the objectives of the rule. The provisions of section 205 do not apply when they are inconsistent with applicable law. Moreover, section 205 allows EPA to adopt an alternative other than the least-costly, most cost-effective, or least-burdensome alternative if the Administrator publishes with the final rule an explanation why that alternative was not adopted. Before EPA establishes any regulatory requirements that may significantly or uniquely affect small governments, including tribal governments, it must have developed under section 203 of the UMRA a small government agency plan. The plan must provide for notifying potentially affected small governments to have meaningful and timely input in the development of EPA regulatory proposals with significant Federal intergovernmental mandates, and informing, educating, and advising small governments on compliance with the regulatory requirements.

The EPA has determined that today's amendments do not contain a Federal mandate that may result in expenditures of $100 million or more for State, local, or tribal governments, in the aggregate, or the private sector in any 1 year. For existing sources, the total annual cost of the PAI Production NESHAP has been estimated to be approximately $39.4 million (64 FR 33559, June 23, 1999). Today's amendments do not add new requirements that would increase this cost. Thus, today's amendments are not subject to the requirements of sections 202 and 205 of the UMRA. In addition, EPA has determined that these amendments contain no regulatory requirements that might significantly or uniquely affect small governments because they contain no requirements that apply to such governments or impose obligations upon them. Therefore, today's amendments are not subject to the requirements of section 203 of the UMRA.

F. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's amendments on small entities, a small entity is defined as: (1) A small business in the North American Industrial Classification System (NAICS) code 325320 (standard industrial classification (SIC) code 2879) that has up to 500 employees; (2) a small business in NAICS code 325199 (SIC code 2869) that has up to 1,000 employees; (3) a small governmental jurisdiction that is a government of a city, county, town, school district or special district with a population of less than 50,000; and (4) a small organization that is any not-for-profit enterprise which is independently owned and operated and is not dominant in its field.

After considering the economic impacts of today's amendments on small entities, we have concluded that this action will not have a significant economic impact on a substantial number of small entities. The EPA has determined that none of the small entities will experience a significant impact because the amendments impose no additional regulatory requirements on owners or operators of affected sources.

Although today's amendments will not have a significant economic impact, EPA nonetheless has tried to reduce the impact of the amendments on small entities. Many of the amendments define optional means of compliance. For example, vapor balancing was added as an optional means of compliance for storage tanks, compliance may be demonstrated for either TOC or total organic HAP rather than only TOC, monitoring of combustion device operating parameters is allowed under the alternative standard as an option to correcting to 3 percent oxygen, and we have specified additional EPA test methods that may be used to analyze wastewater without performing the validation procedures specified in Method 301 of Appendix A to 40 CFR part 63. We also added a provision that allows an owner or operator to request an extension to the specified period of planned routine maintenance of control devices for storage vessels during which the owner or operator is exempt from the standards. The amendments also simplify the initial compliance demonstration requirements and recordkeeping requirements for processes that are controlled by a dedicated control device.

G. Paperwork Reduction Act

The OMB has approved the information collection requirements contained in the 1999 NESHAP under the provisions of the Paperwork Reduction Act, 44 U.S.C. 3501 et seq. and has assigned OMB control number 2060-0370. An Information Collection Request (ICR) document has been prepared by EPA (ICR No. 1807.01), and a copy may be obtained from Susan Auby by mail at the Collection Strategies Division, U.S. EPA (2822), 1200 Pennsylvania Avenue, NW., Washington, DC 20460, by e-mail at auby.susan@epa.gov, or by calling (202) 260-1672. A copy may also be downloaded off the Internet at http://www.epa.gov/icr.

Today's amendments to the NESHAP will have no net impact on the information collection burden estimates made previously. An oversight has been corrected by adding recordkeeping and reporting requirements for add-on control devices for storage tanks equipped with floating roofs. The promulgated rule only included recordkeeping and reporting requirements for add-on control devices for storage tanks; even though both add-on control devices and floating roofs were considered in the cost impacts and burden estimates. Also, the amendments clarify the intent of several provisions in the 1999 NESHAP and correct inadvertent omissions and minor drafting errors in the 1999 NESHAP. Therefore, the ICR has not been revised.

H. National Technology Transfer and Advancement Act of 1995

Section 12(d) of the National Technology Transfer and Advancement Act of 1995 (NTTAA), Public Law 104-113, Section 12(d) (15 U.S.C. 272 note), directs EPA to use voluntary consensus standards in its regulatory activities, unless to do so would be inconsistent with applicable law or otherwise impractical. Voluntary consensus standards are technical standards (e.g., materials specifications, test methods, sampling procedures, and business practices) developed or adopted by voluntary consensus standards bodies. The NTTAA directs EPA to provide Congress, through OMB, explanations when the Agency decides not to use available and applicable voluntary consensus standards.

During the rulemaking, EPA searched for voluntary consensus standards that might be applicable. The search identified 22 voluntary consensus standards that appeared to have possible use in lieu of EPA standard reference methods in the rule, but after review, none were considered practical alternatives to the specified EPA methods. An assessment of these voluntary consensus standards is presented in the preamble to the 1999 NESHAP (64 FR 33588, June 23, 1999). Today's action specifies additional EPA methods that may be used to determine the concentration of HAP in wastewater samples without conducting the validation procedures specified in 40 CFR 63.144, but no additional voluntary consensus standards have been identified.

I. The Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective September 20, 2002.

J. Executive Order 13211, Actions Concerning Regulations That Significantly Affect Energy Supply, Distribution, or Use

This rule is not subject to Executive Order 13211 (66 FR 28355, May 22, 2001) because it is not a significant regulatory action under Executive Order 12866.

List of Subjects in 40 CFR Part 63

Environmental protection, Administrative practice and procedure, Air pollution control, Hazardous substances, Intergovernmental relations, Reporting and recordkeeping requirements.

Dated: September 6, 2002.
Christine Todd Whitman,
Administrator.

For the reasons set out in the preamble, title 40, chapter I, part 63 of the Code of Federal Regulations is amended as follows:

PART 63—[AMENDED]

1. The authority citation for part 63 continues to read as follows:

Authority: 42 U.S.C. 7401, et seq.

Subpart MMM—[Amended]

2. Section 63.1360 is amended by:

a. Revising paragraph (b) introductory text;

b. Revising paragraph (b)(2);

c. Revising paragraph (d)(3);

d. Redesignating paragraph (d)(4) as paragraph (d)(5) and adding a new paragraph (d)(4);

e. Revising paragraph (f) introductory text;

f. Revising paragraphs (f)(2) through (4) and adding paragraph (f)(5);

g. Revising paragraph (h); and

h. Revising paragraph (i)(1).

The revisions and additions read as follows:

§ 63.1360 Applicability.

* * * * *

(b) New source applicability. A new affected source subject to this subpart and to which the requirements for new sources apply is defined according to the criteria in paragraph (b)(1) or (2) of this section.

* * * * *

(2) Any dedicated PAI process unit that meets the criteria specified in paragraphs (b)(2)(i) and (ii) of this section.

(i) For which construction, as defined in § 63.1361, commenced after November 10, 1997, or reconstruction commenced after September 20, 2002.

(ii) That has the potential to emit 10 tons/yr of any one HAP or 25 tons/yr of combined HAP.

* * * * *

(d) * * *

(3) Production of ethylene;

(4) Coal tar distillation; and

* * * * *

(f) Storage vessel applicability determination. An owner or operator shall follow the procedures specified in paragraphs (f)(1) through (5) of this section to determine whether a storage vessel is part of the affected source to which this subpart applies.

* * * * *

(2) Unless otherwise excluded under paragraph (f)(1) of this section, the storage vessel is part of a PAI process unit if either the input to the vessel from the PAI process unit is greater than or equal to the input from any other PAI or non-PAI process unit, or the output from the vessel to the PAI process unit is greater than or equal to the output to any other PAI or non-PAI process unit. If the greatest input to and/or output from a shared storage vessel is the same for two or more process units, including one or more PAI process units, the owner or operator must assign the storage vessel to any one of the PAI process units that meet this condition.

(3) Unless otherwise excluded under paragraph (f)(1) of this section, where a storage vessel is located in a tank farm (including a marine tank farm), the applicability of this subpart shall be determined according to the provisions in paragraphs (f)(3)(i) through (iii) of this section.

(i) The storage vessel in the tank farm is not subject to the provisions of this subpart if the greatest input to or output from the storage vessel is for a non-PAI process unit. The input and output shall be determined among only those process units that share the storage vessel and that do not have an intervening storage vessel for that product (or raw material, as appropriate).

(ii) Except for storage vessels in a tank farm excluded in accordance with paragraph (f)(3)(i) of this section, applicability of this subpart shall be determined according to the provisions in paragraphs (f)(3)(ii)(A) through (C) of this section.

(A) Except as specified in paragraph (f)(3)(ii)(C) of this section, this subpart does not apply to the storage vessel in a tank farm if each PAI process unit that receives material from or sends material to the storage vessel has an intervening storage vessel for that material.

(B) Except as specified in paragraph (f)(3)(ii)(C) of this section, a storage vessel in a tank farm shall be assigned to the PAI process unit that receives the greatest amount of material from or sends the greatest amount of material to the storage vessel and does not have an intervening storage vessel. If two or more PAI process units have the same input to or output from the storage vessel in the tank farm, then the storage vessel in the tank farm may be assigned to any one of the PAI process units that meet this condition.

(C) As an alternative to the requirements specified in paragraphs (f)(3)(ii)(A) and (B) of this section, even if an intervening storage vessel is present, an owner or operator may elect to assign a storage vessel in a tank farm to the PAI process unit that sends the most material to or receives the most material from the storage vessel. If two or more PAI process units have the same input to or output from the storage vessel in the tank farm, then the storage vessel in the tank farm may be assigned to any one of the PAI process units that meet this condition.

(iii) With respect to a process unit, an intervening storage vessel means a storage vessel connected by hard-piping to the process unit and to the storage vessel in the tank farm so that the product or raw material entering or leaving the process flows into (or from) the intervening storage vessel and does not flow directly into (or from) the storage vessel in the tank farm.

(4) If use varies from year to year, then use for the purposes of this subpart for existing sources shall be based on the utilization that occurred during the year preceding June 23, 1999, or if the storage vessel was not in operation during that year, the use shall be based on the expected use in the 5 years after startup. This determination shall be reported as part of an operating permit application or as otherwise specified by the permitting authority.

(5) If the storage vessel begins receiving material from (or sending material to) another process unit, or ceasing to receive material from (or send material to) a PAI process unit, or if there is a significant change in the use of the storage vessel, the owner or operator shall reevaluate the ownership determination for the storage vessel.

* * * * *

(h) Applicability of process units included in a process unit group. An owner or operator may elect to develop process unit groups in accordance with paragraph (h)(1) of this section. For the PAI process units in these process unit groups, the owner or operator may comply with the provisions in overlapping MACT standards, as specified in paragraphs (h)(2) through (4) of this section, as an alternative means of demonstrating compliance with the provisions of this subpart.

(1) Develop, revise, and document changes in a process unit group in accordance with the procedures specified in paragraphs (h)(1)(i) through (vi) of this section.

(i) Initially identify a non-dedicated PAI process unit that is operating on December 23, 2003 or a date after December 23, 2003, and identify all processing equipment that is part of this PAI process unit, based on descriptions in operating scenarios.

(ii) Add to the group any other non-dedicated PAI and non-dedicated non-PAI process units expected to be operated in the 5 years after the date specified in paragraph (h)(1)(i) of this section, provided they satisfy the criteria specified in paragraphs (h)(1)(ii)(A) through (C) of this section. Also identify all of the processing equipment used for each process unit based on information from operating scenarios and other applicable documentation.

(A) Each PAI process unit that is added to a group must have some processing equipment that is part of one or more PAI process units that are already in the process unit group.

(B) Each non-PAI process unit that is added to a group must have some processing equipment that is also part of one or more of the PAI process units in the group.

(C) No process unit may be part of more than one process unit group.

(iii) The initial process unit group consists of all of the processing equipment for the process units identified in paragraphs (h)(1)(i) and (ii) of this section.

(iv) If compliance is to be demonstrated in accordance with paragraph (h)(3) of this section, determine the primary product of the process unit group according to the procedures specified in paragraphs (h)(1)(iv)(A) through (C) of this section.

(A) The primary product is the type of product (e.g., PAI, pharmaceutical product, thermoplastic resin, etc.) that is expected to be produced for the greatest operating time in the 5-year period specified in paragraph (h)(1)(i) of this section.

(B) If the process unit group produces multiple products equally based on operating time, then the primary product is the product with the greatest production on a mass basis over the 5-year period specified in paragraph (h)(1)(i) of this section.

(C) The primary product of the group must be redetermined if the owner or operator does not intend to make that product in the future or if it has not been made for 5 years. The results of the redetermination must be recorded as specified in § 63.1367(b) and reported in a Periodic report no later than the report covering the period for the end of the 5th year as specified in § 63.1368(g)(2). If the primary product changes, the owner or operator must either demonstrate compliance with the applicable subpart as specified in paragraph (h)(3) of this section or demonstrate compliance with the provisions of this subpart MMM.

(v) Add process units developed in the future in accordance with the conditions specified in paragraphs (h)(1)(ii)(A) through (C) of this section.

(vi) Maintain records of changes in the process units in each process unit group as specified in § 63.1367(b)(9), and maintain reports as specified in § 63.1368(f)(9) and (g)(2)(ix).

(2) If any of the products produced in the process unit group are subject to 40 CFR part 63, subpart GGG (Pharmaceuticals MACT), the owner or operator may elect to comply with the requirements of subpart GGG for the PAI process unit(s) within the process unit group, except for the following:

(i) The emission limit standard for process vents in § 63.1362(b)(2)(i) shall apply in place of § 63.1254(a)(2);

(ii) When the dates of April 2, 1997 and April 2, 2007 are provided in § 63.1254(a)(3)(ii), the dates of November 10, 1997 and November 10, 2007, respectively, shall apply for purposes of this subpart MMM; and

(iii) Requirements in § 63.1367(a)(5) regarding application for approval of construction or reconstruction shall apply in place of the provisions in § 63.1259(a)(5).

(3) If the primary product of a process unit group is determined to be a type of material that is subject to another subpart of 40 CFR part 63 on June 23, 1999 or startup of the first process unit after formation of the process unit group, whichever is later, the owner or operator may elect to comply with the other subpart for any PAI process unit within the process unit group, subject to the requirement in this paragraph (h)(3). Emissions from PAI Group 1 process vents, as defined in § 63.1361, must be reduced in accordance with the control requirements for Group 1 vents as specified in the alternative subpart. The criteria in the alternative subpart for determining which process vents must be controlled do not apply for the purposes of this paragraph (h)(3).

(4) The requirements for new and reconstructed sources in the alternative subpart apply to all PAI process units in the process unit group if, and only if, the affected source under the alternative subpart meets the requirements for construction or reconstruction.

(i) * * *

(1) Compliance with other MACT standards. (i) After the compliance dates specified in § 63.1364, an affected source subject to the provisions of this subpart that is also subject to the provisions of any other subpart of 40 CFR part 63 may elect, to the extent the subparts are consistent, under which subpart to maintain records and report to EPA. The affected source shall identify in the Notification of Compliance Status report required by § 63.1368(f) under which authority such records will be maintained.

(ii) After the compliance dates specified in § 63.1364, at an offsite reloading or cleaning facility subject to § 63.1362(b)(6), compliance with the emission standards and associated initial compliance monitoring, recordkeeping, and reporting provisions of any other subpart of 40 CFR part 63 constitutes compliance with the provisions of § 63.1362(b)(6)(vii)(B) or (C). The owner or operator of the affected storage vessel shall identify in the Notification of Compliance Status report required by § 63.1368(f) the subpart of 40 CFR part 63 with which the owner or operator of the offsite reloading or cleaning facility complies.

* * * * *

3. Section 63.1361 is amended by:

a. Revising the definitions for “Construction,” “Consumption,” “Group 1 storage vessel,” “Group 1 wastewater stream,” “Intermediate,” “Process,” “Process unit group,” “Process vent,” “Recovery device,” “Supplemental gases,” and “Wastewater”;

b. Revising “equipment identified in § 63.1362(l)” to read “equipment identified in § 63.1362(k)” in the definition of “pesticide active ingredient manufacturing process unit (PAI process unit)”; and

c. Adding definitions in alphabetical order for “Dedicated PAI process unit,” “Formulation of pesticide products,” “Non-dedicated PAI process unit,” “Reconfiguration,” and “Reconstruction.”

The revisions and additions read as follows:

§ 63.1361 Definitions.

* * * * *

Construction means the onsite fabrication, erection, or installation of an affected source or dedicated PAI process unit. Addition of new equipment to an affected source does not constitute construction, provided the new equipment is not a dedicated PAI process unit with the potential to emit 10 tons/yr of any one HAP or 25 tons/yr of combined HAP, but it may constitute reconstruction of the affected source or PAI process unit if it satisfies the definition of reconstruction in this section. At an affected source, changing raw materials processed and reconfiguring non-dedicated equipment to create a non-dedicated PAI process unit do not constitute construction.

Consumption means the quantity of all HAP raw materials entering a process in excess of the theoretical amount used as reactant, assuming 100 percent stoichiometric conversion. The raw materials include reactants, solvents, and any other additives. If HAP are generated in the process as well as added as raw material, consumption includes the quantity generated in the process.

* * * * *

Dedicated PAI process unit means a PAI process unit constructed from equipment that is fixed in place and designed and operated to produce only a single product or co-products. The equipment is not designed to be reconfigured to create different process units, and it is not operated with different raw materials so as to produce different products.

* * * * *

Formulation of pesticide products means the mixing, blending, or diluting of a PAI with one or more other PAI or inert ingredients.

* * * * *

Group 1 storage vessel means a storage vessel at an existing affected source with a capacity equal to or greater than 75 m³ and storing material with a maximum true vapor pressure greater than or equal to 3.45 kPa, a storage vessel at a new affected source with a capacity equal to or greater than 40 m³ and storing material with a maximum true vapor pressure greater than or equal to 16.5 kPa, or a storage vessel at a new affected source with a capacity greater than or equal to 75 m³ and storing material with a maximum true vapor pressure greater than or equal to 3.45 kPa.

* * * * *

Group 1 wastewater stream means process wastewater at an existing or new source that meets the criteria for Group 1 status in § 63.132(c) for compounds in Table 9 of subpart G of this part or a maintenance wastewater stream that contains 5.3 Mg of compounds in Table 9 of subpart G of this part per discharge event.

* * * * *

Intermediate means an organic compound that is manufactured in a process and that is further processed or modified in one or more additional steps to ultimately produce a PAI.

* * * * *

Non-dedicated PAI process unit means a process unit that is not a dedicated PAI process unit.

* * * * *

Process means a logical grouping of processing equipment which collectively function to produce a product. For the purpose of this subpart, a PAI process includes all, or a combination of, reaction, recovery, separation, purification, treatment, cleaning, and other activities or unit operations which are used to produce a PAI or integral intermediate. Ancillary activities are not considered a PAI process or any part of a PAI process. Ancillary activities include boilers and incinerators (not used to comply with the provisions of § 63.1362), chillers or refrigeration systems, and other equipment and activities that are not directly involved (i.e., they operate within a closed system and materials are not combined with process fluids) in the processing of raw materials or the manufacturing of a PAI. A PAI process and all integral intermediate processes for which 100 percent of the annual production is used in the production of the PAI may be linked together and defined as a single PAI process unit.

* * * * *

Process unit group means a group of process units that manufacture PAI and products other than PAI by alternating raw materials or operating conditions, or by reconfiguring process equipment. A process unit group is determined according to the procedures specified in § 63.1360(g).

Process vent means a point of emission from processing equipment to the atmosphere or a control device. The vent may be the release point for an emission stream associated with an individual unit operation, or it may be the release point for emission streams from multiple unit operations that have been manifolded together into a common header. Examples of process vents include, but are not limited to, vents on condensers used for product recovery, bottom receivers, surge control vessels, reactors, filters, centrifuges, process tanks, and product dryers. A vent is not considered to be a process vent for a given emission episode if the undiluted and uncontrolled emission stream that is released through the vent contains less than 50 ppmv HAP, as determined through process knowledge that no HAP are present in the emission stream; using an engineering assessment as discussed in § 63.1365(c)(2)(ii); from test data collected using Method 18 of 40 CFR part 60, appendix A; or from test data collected using any other test method that has been validated according to the procedures in Method 301 of appendix A of this part. Process vents do not include vents on storage vessels regulated under § 63.1362(c), vents on wastewater emission sources regulated under § 63.1362(d), or pieces of equipment regulated under § 63.1363.

* * * * *

Reconfiguration means disassembly of processing equipment for a particular non-dedicated process unit and reassembly of that processing equipment in a different sequence, or in combination with other equipment, to create a different non-dedicated process unit.

Reconstruction, as used in § 63.1360(b), shall have the meaning given in § 63.2, except that “affected or previously unaffected stationary source” shall mean either “affected facility” or “PAI process unit.”

Recovery device, as used in the wastewater provisions, means an individual unit of equipment capable of, and normally used for the purpose of, recovering chemicals for fuel value (i.e., net positive heating value), use, reuse, or for sale for fuel value, use, or reuse. Examples of equipment that may be recovery devices include organic removal devices such as decanters, strippers, or thin-film evaporation units. To be a recovery device, a decanter and any other equipment based on the operating principle of gravity separation must receive only multi-phase liquid streams.

* * * * *

Supplemental gases means any nonaffected gaseous streams (streams that are not from process vents, storage vessels, equipment or waste management units) that contain less than 50 ppmv TOC and less than 50 ppmv total HCl and chlorine, as determined through process knowledge, and are combined with an affected vent stream. Supplemental gases are often used to maintain pressures in manifolds or for fire and explosion protection and prevention. Air required to operate combustion device burner(s) is not considered a supplemental gas.

* * * * *

Wastewater means water that meets either of the conditions described in paragraph (1) or (2) of this definition and is discarded from a PAI process unit that is at an affected source:

(1) Is generated from a PAI process or a scrubber used to control emissions from a PAI process and contains either:

(i) An annual average concentration of compounds in Table 9 of subpart G of this part of at least 5 ppmw and has an average flow rate of 0.02 L/min or greater; or

(ii) An annual average concentration of compounds in Table 9 of subpart G of this part of at least 10,000 ppmw at any flow rate;

(2) Is generated from a PAI process unit as a result of maintenance activities and contains at least 5.3 Mg of compounds listed in Table 9 of subpart G of this part per individual discharge event.

* * * * *

4. Section 63.1362 is amended by:

a. Revising paragraph (b)(2)(iv)(A);

b. Revising paragraph (b)(4)(ii)(A);

c. Revising paragraph (b)(5)(ii);

d. Revising paragraph (b)(6);

e. Revising paragraph (c)(2) introductory text;

f. Revising paragraph (c)(2)(iv) introductory text;

g. Revising paragraph (c)(2)(iv)(B);

h. Revising paragraphs (c)(3) through (6);

i. Adding paragraph (c)(7);

j. Revising paragraph (d) introductory text;

k. Revising paragraph (d)(2) introductory text;

l. Removing paragraph (d)(2)(v);

m. Revising paragraphs (d)(12) through (14);

n. Adding paragraphs (d)(15) and (16);

o. Revising paragraph (h)(2) introductory text;

p. Revising paragraphs (h)(2)(i) and (iii); and

q. Revising paragraphs (h)(3) and (4).

The revisions and additions read as follows:

§ 63.1362 Standards.

* * * * *

(b) * * *

(2) * * *

(iv) * * *

(A) To outlet concentrations less than or equal to 20 ppmv; or

* * * * *

(4) * * *

(ii) * * *

(A) To outlet concentrations less than or equal to 20 ppmv; or

* * * * *

(5) * * *

(ii) If HCl and Cl2 emissions, including HCl generated from combustion of halogenated process vent emissions, from the sum of all process vents within a process are greater than 6.8 Mg/yr and less than or equal to 191 Mg/yr, these HCl and Cl2 emissions shall be reduced by 94 percent or to an outlet concentration less than or equal to 20 ppmv.

* * * * *

(6) Alternative standard. As an alternative to the provisions in paragraphs (b)(2) through (5) of this section, the owner or operator may route emissions from a process vent to a combustion control device achieving an outlet TOC concentration, as calibrated on methane or the predominant HAP, of 20 ppmv or less, and an outlet concentration of HCl and Cl2 of 20 ppmv or less. If the owner or operator is routing emissions to a non-combustion control device or series of control devices, the control device(s) must achieve an outlet TOC concentration, as calibrated on methane or the predominant HAP, of 50 ppmv or less, and an outlet concentration of HCl and Cl2 of 50 ppmv or less. Any process vents within a process that are not routed to such a control device or series of control devices must be controlled in accordance with the provisions of paragraph (b)(2)(ii), (iii), (iv), (b)(3)(ii), (b)(4)(ii), (b)(5)(ii) or (iii) of this section, as applicable.

(c) * * *

(2) Standard for existing sources. Except as specified in paragraphs (c)(4), (5), and (6) of this section, the owner or operator of a Group 1 storage vessel at an existing affected source, as defined in § 63.1361, shall equip the affected storage vessel with one of the following:

* * * * *

(iv) A closed vent system meeting the conditions of paragraph (j) of this section and a control device that meets any of the following conditions:

* * * * *

(B) Reduces organic HAP emissions to outlet concentrations of 20 ppmv or less; or

* * * * *

(3) Standard for new sources. Except as specified in paragraphs (c)(4), (5), and (6) of this section, the owner or operator of a Group 1 storage vessel at a new source, as defined in § 63.1361, shall equip the affected storage vessel in accordance with any one of paragraphs (c)(2)(i) through (iv) of this section.

(4) Alternative standard. As an alternative to the provisions in paragraphs (c)(2) and (3) of this section, the owner or operator of an existing or new affected source may route emissions from storage vessels to a combustion control device achieving an outlet TOC concentration, as calibrated on methane or the predominant HAP, of 20 ppmv or less, and an outlet concentration of hydrogen chloride and chlorine of 20 ppmv or less. If the owner or operator is routing emissions to a non-combustion control device or series of control devices, the control device(s) must achieve an outlet TOC concentration, as calibrated on methane or the predominant HAP, of 50 ppmv or less, and an outlet concentration of HCl and Cl2 of 50 ppmv or less.

(5) Planned routine maintenance. The owner or operator is exempt from the specifications in paragraphs (c)(2) through (4) of this section during periods of planned routine maintenance of the control device that do not exceed 240 hr/yr. The owner or operator may submit an application to the Administrator requesting an extension of this time limit to a total of 360 hr/yr. The application must explain why the extension is needed, it must indicate that no material will be added to the storage vessel between the time the 240-hr limit is exceeded and the control device is again operational, and it must be submitted at least 60 days before the 240-hr limit will be exceeded.

(6) Vapor balancing alternative. As an alternative to the requirements in paragraphs (c)(2) and (3) of this section, the owner or operator of an existing or new affected source may implement vapor balancing in accordance with paragraphs (c)(6)(i) through (vii) of this section.

(i) The vapor balancing system must be designed and operated to route organic HAP vapors displaced from loading of the storage tank to the railcar or tank truck from which the storage tank is filled.

(ii) Tank trucks and railcars must have a current certification in accordance with the U.S. Department of Transportation pressure test requirements of 49 CFR part 180 for tank trucks and 49 CFR 173.31 for railcars.

(iii) Hazardous air pollutants must only be unloaded from tank trucks or railcars when vapor collection systems are connected to the storage tank's vapor collection system.

(iv) No pressure relief device on the storage tank or on the railcar or tank truck shall open during loading or as a result of diurnal temperature changes (breathing losses).

(v) Pressure relief devices on affected storage tanks must be set to no less than 2.5 psig at all times to prevent breathing losses. The owner or operator shall record the setting as specified in § 63.1367(b)(8) and comply with the following requirements for each pressure relief valve:

(A) The pressure relief valve shall be monitored quarterly using the method described in § 63.180(b).

(B) An instrument reading of 500 ppmv or greater defines a leak.

(C) When a leak is detected, it shall be repaired as soon as practicable, but no later than 5 days after it is detected, and the owner or operator shall comply with the recordkeeping requirements of § 63.1363(g)(4)(i) through (iv).

(vi) Railcars or tank trucks that deliver HAP to an affected storage tank must be reloaded or cleaned at a facility that utilizes one of the following control techniques:

(A) The railcar or tank truck must be connected to a closed vent system with a control device that reduces inlet emissions of HAP by 90 percent by weight or greater; or

(B) A vapor balancing system designed and operated to collect organic HAP vapor displaced from the tank truck or railcar during reloading must be used to route the collected HAP vapor to the storage tank from which the liquid being transferred originated.

(vii) The owner or operator of the facility where the railcar or tank truck is reloaded or cleaned must comply with the following requirements:

(A) Submit to the owner or operator of the affected storage tank and to the Administrator a written certification that the reloading or cleaning facility will meet the requirements of this section. The certifying entity may revoke the written certification by sending a written statement to the owner or operator of the affected storage tank giving at least 90 days notice that the certifying entity is rescinding acceptance of responsibility for compliance with the requirements of this paragraph (c)(6)(vii)(A).

(B) If complying with paragraph (c)(6)(vi)(A) of this section, demonstrate initial compliance in accordance with § 63.1365(d), demonstrate continuous compliance in accordance with § 63.1366, keep records as specified in § 63.1367, and prepare reports as specified in § 63.1368.

(C) If complying with paragraph (c)(6)(vi)(B) of this section, keep records of:

(1) The equipment to be used and the procedures to be followed when reloading the railcar or tank truck and displacing vapors to the storage tank from which the liquid originates, and

(2) Each time the vapor balancing system is used to comply with paragraph (c)(6)(vi)(B) of this section.

(7) Compliance with the provisions of paragraphs (c)(2) and (3) of this section is demonstrated using the initial compliance procedures in § 63.1365(d) and the monitoring requirements in § 63.1366. Compliance with the outlet concentrations in paragraph (c)(4) of this section shall be determined by the initial compliance provisions in § 63.1365(a)(5) and the continuous emission monitoring requirements of § 63.1366(b)(5).

(d) Wastewater. The owner or operator of each affected source shall comply with the requirements of §§ 63.132 through 63.147, with the differences noted in paragraphs (d)(1) through (16) of this section for the purposes of this subpart.

* * * * *

(2) When the storage tank requirements contained in §§ 63.119 through 63.123 are referred to in §§ 63.132 through 63.147, §§ 63.119 through 63.123 are applicable, with the exception of the differences noted in paragraphs (d)(2)(i) through (iv) of this section.

* * * * *

(12) As an alternative to using Method 18 of 40 CFR part 60, as specified in §§ 63.139(c)(1)(ii) and 63.145(i)(2), the owner or operator may elect to use Method 25 or Method 25A of 40 CFR part 60, as specified in § 63.1365(b).

(13) The requirement to correct outlet concentrations from combustion devices to 3 percent oxygen in § 63.139(c)(1)(ii) shall apply only if supplemental gases are combined with affected vent streams, and the procedures in § 63.1365(a)(7)(i) apply instead of the procedures in § 63.145(i)(6) to determine the percent oxygen correction. If emissions are controlled with a vapor recovery system as specified in § 63.139(c)(2), the owner or operator must correct for supplemental gases as specified in § 63.1365(a)(7)(ii).

(14) As an alternative to the management and treatment options specified in § 63.132(g)(2), any Group 1 wastewater stream (or residual removed from a Group 1 wastewater stream) that contains less than 50 ppmw of HAP listed in Table 2 to subpart GGG of this part may be transferred offsite or to an on-site treatment operation not owned or operated by the owner or operator of the source generating the wastewater (or residual) if the transferee manages and treats the wastewater stream or residual in accordance with paragraphs (d)(14)(i) through (iv) of this section.

(i) Treat the wastewater stream or residual in a biological treatment unit in accordance with §§ 63.138 and 63.145.

(ii) Cover the waste management units up to the activated sludge unit. Alternatively, covers are not required if the owner or operator demonstrates that less than 5 percent of the total HAP listed in Table 3 to subpart GGG of this part is emitted.

(iii) Inspect covers as specified in § 63.1366(h).

(iv) The reference in § 63.132(g)(2) to “§ 63.102(b) of subpart F” does not apply for the purposes of this subpart.

(15) When § 63.133 refers to Table 10 to subpart G of this part, the maximum true vapor pressures in the table shall be limited to the HAP listed in Table 9 to subpart G of this part.

(16) When the inspection, recordkeeping, and reporting requirements contained in § 63.148 are referred to in §§ 63.132 through 63.147, the inspection requirements in § 63.1366(h), the recordkeeping requirements in § 63.1367(f), and the reporting requirements in § 63.1368(g)(2)(iii) and (xi) shall apply for the purposes of this subpart.

* * * * *

(h) * * *

(2) Group 1 emission points that are controlled as specified in paragraphs (h)(2)(i) through (iii) of this section may not be used to calculate emissions averaging credits, unless the equipment is approved for use in a different manner from that specified in paragraphs (b) through (d) of this section, and a nominal efficiency has been assigned according to the procedures in § 63.150(i). The nominal efficiency must exceed the percent reduction required by paragraphs (b) and (c) of this section for process vents and storage vessels, respectively, exceed the percent reduction required in § 63.139(c) for control devices used to control emissions vented from waste management units, and exceed the percent reduction required in § 63.138(e) or (f) for wastewater treatment processes.

(i) Storage vessels controlled with an internal floating roof meeting the specifications of § 63.119(b), an external floating roof meeting the specifications of § 63.119(c), or an external floating roof converted to an internal floating meeting the specifications of § 63.119(d).

* * * * *

(iii) Wastewater streams that are managed in waste management units that are controlled as specified in §§ 63.133 through 63.137, treated using a steam stripper meeting the specifications of § 63.138(d), and emissions from the steam stripper are controlled in a control device that meets the percent reduction requirements specified in § 63.139(c).

(3) Process vents and storage vessels controlled with a control device to an outlet concentration of 20 ppmv or 50 ppmv, as specified in paragraph (b)(2)(iv)(A), (b)(3)(ii), (b)(6), (c)(2)(iv)(B), or (c)(4) of this section, and wastewater streams controlled in a treatment unit to an outlet concentration of 50 ppmw, may not be used in any averaging group.

(4) Maintenance wastewater streams, wastewater streams treated in biological treatment units, and Group 2 wastewater streams that are not managed as specified in §§ 63.133 through 63.137 may not be included in any averaging group.

* * * * *

5. Section 63.1363 is amended by:

a. Revising paragraph (a)(1);

b. Revising paragraphs (a)(10)(ii) and (iii);

c. Revising paragraphs (b)(3)(iii)(A) through (F);

d. Adding paragraph (b)(3)(iii)(G);

e. Revising paragraph (b)(3)(iv);

f. Revising paragraphs (c)(2)(i) and (iii);

g. Revising paragraph (c)(3)(i);

h. Revising paragraph (c)(4)(ii);

i. Revising paragraph (c)(5) introductory text;

j. Revising paragraph (c)(5)(iv);

k. Removing paragraphs (c)(5)(vi)(C) and (D);

l. Adding paragraph (c)(5)(vii);

m. Revising paragraph (c)(6);

n. Revising paragraph (c)(9);

o. Revising paragraph (e)(7)(iii);

p. Revising paragraph (e)(9);

q. Revising paragraph (f); and

r. Revising paragraph (g)(2)(vi).

The revisions and additions read as follows:

§ 63.1363 Standards for equipment leaks.

(a) * * *

(1) The provisions of this section apply to “equipment” as defined in § 63.1361. The provisions of this section also apply to any closed-vent systems and control devices required by this section.

* * * * *

(10) * * *

(ii) The identification on a valve in light liquid or gas/vapor service may be removed after it has been monitored as specified in paragraph (e)(7)(iii) of this section, and no leak has been detected during the follow-up monitoring. If an owner or operator elects to comply with § 63.174(c)(1)(i), the identification on a connector may be removed after it has been monitored as specified in § 63.174(c)(1)(i) and no leak is detected during that monitoring.

(iii) The identification on equipment, except as specified in paragraph (a)(10)(ii) of this section, may be removed after it has been repaired.

* * * * *

(b) * * *

(3) * * *

(iii) * * *

(A) Section 63.174(b), (f), (g), and (h) shall not apply. In place of § 63.174(b), the owner or operator shall comply with paragraphs (b)(3)(iii)(C) through (G) of this section. In place of § 63.174(f), (g), and (h), the owner or operator shall comply with paragraph (f) of this section.

(B) Days that the connectors are not in organic HAP service shall not be considered part of the 3-month period in § 63.174(c).

(C) If the percent leaking connectors in a group of processes was greater than or equal to 0.5 percent during the initial monitoring period, monitoring shall be performed once per year until the percent leaking connectors is less than 0.5 percent.

(D) If the percent leaking connectors in the group of processes was less than 0.5 percent, but equal to or greater than 0.25 percent, during the last required monitoring period, monitoring shall be performed once every 4 years. An owner or operator may comply with the requirements of this paragraph by monitoring at least 40 percent of the connectors in the first 2 years and the remainder of the connectors within the next 2 years. The percent leaking connectors will be calculated for the total of all monitoring performed during the 4-year period.

(E) The owner or operator shall increase the monitoring frequency to once every 2 years for the next monitoring period if leaking connectors comprise at least 0.5 percent but less than 1.0 percent of the connectors monitored within either the 4 years specified in paragraph (b)(3)(iii)(D) of this section, the first 4 years specified in paragraph (b)(3)(iii)(G) of this section, or the entire 8 years specified in paragraph (b)(3)(iii)(G) of this section. At the end of that 2-year monitoring period, the owner or operator shall monitor once per year while the percent leaking connectors is greater than or equal to 0.5 percent; if the percent leaking connectors is less than 0.5 percent, the owner or operator may again elect to monitor in accordance with paragraph (b)(3)(iii)(D) or (G) of this section, as applicable.

(F) If an owner or operator complying with the requirements of paragraph (b)(3)(iii)(D) or (G) of this section for a group of processes determines that 1 percent or greater of the connectors are leaking, the owner or operator shall increase the monitoring frequency to one time per year. The owner or operator may again elect to use the provisions of paragraph (b)(3)(iii)(D) or (G) of this section after a monitoring period in which less than 0.5 percent of the connectors are determined to be leaking.

(G) Monitoring shall be required once every 8 years, if the percent leaking connectors in the group of process units was less than 0.25 percent during the last required monitoring period. An owner or operator shall monitor at least 50 percent of the connectors in the first 4 years and the remainder of the connectors within the next 4 years. If the percent leaking connectors in the first 4 years is equal to or greater than 0.35 percent, the monitoring program shall revert at that time to the appropriate monitoring frequency specified in paragraph (b)(3)(iii)(D), (E), or (F) of this section.

(iv) Section 63.178, shall apply, except as specified in paragraphs (b)(3)(iv)(A) and (B) of this section.

(A) Section 63.178(b), requirements for pressure testing, shall apply to all processes, not just batch processes.

(B) For pumps, the phrase “at the frequencies specified in Table 1 of this subpart” in § 63.178(c)(3)(iii) shall mean “quarterly” for the purposes of this subpart.

* * * * *

(c) * * *

(2) * * *

(i) Monitoring. Each pump and agitator subject to this section shall be monitored quarterly to detect leaks by the method specified in § 63.180(b), except as provided in §§ 63.177, 63.178, paragraph (f) of this section, and paragraphs (c)(5) through (9) of this section.

* * * * *

(iii) Visual inspections. Each pump and agitator shall be checked by visual inspection each calendar week for indications of liquids dripping from the pump or agitator seal. If there are indications of liquids dripping from the seal at the time of the weekly inspection, the owner or operator shall follow the procedure specified in either paragraph (c)(2)(iii)(A) or (B) of this section prior to the next weekly inspection.

(A) The owner or operator shall monitor the pump or agitator by the method specified in § 63.180(b). If the instrument reading indicates a leak as specified in paragraph (c)(2)(ii) of this section, a leak is detected.

(B) The owner or operator shall eliminate the visual indications of liquids dripping.

(3) * * *

(i) When a leak is detected pursuant to paragraph (c)(2)(i), (c)(2)(iii)(A), (c)(5)(iv)(A), or (c)(5)(vi)(B) of this section, it shall be repaired as soon as practicable, but not later than 15 calendar days after it is detected, except as provided in paragraph (b)(3)(i) of this section.

* * * * *

(4) * * *

(ii) If, calculated on a 1-year rolling average, 10 percent or more of the pumps in a group of processes (or 3 pumps in a group of processes with fewer than 30 pumps) leak, the owner or operator shall monitor each pump once per month, until the calculated 1-year rolling average value drops below 10 percent (or three pumps in a group of processes with fewer than 30 pumps).

* * * * *

(5) Exemptions. Each pump or agitator equipped with a dual mechanical seal system that includes a barrier fluid system and meets the requirements specified in paragraphs (c)(5)(i) through (vii) is exempt from the requirements of paragraphs (c)(1) through (c)(4)(iii) of this section, except as specified in paragraphs (c)(5)(iv)(A) and (vii) of this section.

* * * * *

(iv) Each pump/agitator is checked by visual inspection each calendar week for indications of liquids dripping from the pump/agitator seal. If there are indications of liquids dripping from the pump or agitator seal at the time of the weekly inspection, the owner or operator shall follow the procedures specified in either paragraph (c)(5)(iv)(A) or (B) of this section prior to the next required inspection.

(A) The owner or operator shall monitor the pump or agitator using the method specified in § 63.180(b) to determine if there is a leak of organic HAP in the barrier fluid. If the instrument reading indicates a leak, as specified in paragraph (c)(2)(ii) of this section, a leak is detected.

(B) The owner or operator shall eliminate the visual indications of liquids dripping.

(vii) When a leak is detected pursuant to paragraph (c)(5)(iv)(A) or (vi)(B) of this section, the leak must be repaired as specified in paragraph (c)(3) of this section.

(6) Any pump/agitator that is designed with no externally actuated shaft penetrating the pump/agitator housing is exempt from the requirements of paragraphs (c)(1) through (3) of this section.

* * * * *

(9) If more than 90 percent of the pumps in a group of processes meet the criteria in either paragraph (c)(5) or (6) of this section, the group of processes is exempt from the requirements of paragraph (c)(4) of this section.

* * * * *

(e) * * *

(7) * * *

(iii) When a leak is repaired, the valve shall be monitored at least once within the first 3 months after its repair. Days that the valve is not in organic HAP service shall not be considered part of this 3-month period. The monitoring required by this paragraph is in addition to the monitoring required to satisfy the definitions of “repaired” and “first attempt at repair.”

(A) The monitoring shall be conducted as specified in § 63.180(b) and (c) as appropriate, to determine whether the valve has resumed leaking.

(B) Periodic monitoring required by paragraphs (e)(2) through (4) of this section may be used to satisfy the requirements of paragraph (e)(7)(iii) of this section, if the timing of the monitoring period coincides with the time specified in paragraph (e)(7)(iii) of this section. Alternatively, other monitoring may be performed to satisfy the requirements of paragraph (e)(7)(iii) of this section, regardless of whether the timing of the monitoring period for periodic monitoring coincides with the time specified in paragraph (e)(7)(iii) of this section.

(C) If a leak is detected by monitoring that is conducted pursuant to paragraph (e)(7)(iii) of this section, the owner or operator shall follow the provisions of paragraphs (e)(7)(iii)(C)(1) and (2) of this section to determine whether that valve must be counted as a leaking valve for purposes of paragraph (e)(6) of this section.

(1) If the owner or operator elects to use periodic monitoring required by paragraphs (e)(2) through (4) of this section to satisfy the requirements of paragraph (e)(7)(iii) of this section, then the valve shall be counted as a leaking valve.

(2) If the owner or operator elects to use other monitoring prior to the periodic monitoring required by paragraphs (e)(2) through (4) of this section to satisfy the requirements of paragraph (e)(7)(iii) of this section, then the valve shall be counted as a leaking valve unless it is repaired and shown by periodic monitoring not to be leaking.

* * * * *

(9) Any equipment located at a plant site with fewer than 250 valves in organic HAP service in the affected source is exempt from the requirements for monthly monitoring specified in paragraph (e)(4)(i) of this section. Instead, the owner or operator shall monitor each valve in organic HAP service for leaks once each quarter, or comply with paragraph (e)(4)(iii), (iv), or (v) of this section, except as provided in paragraph (f) of this section.

(f) Unsafe to monitor, difficult-to-monitor, and inaccessible equipment.

(1) Equipment that is designated as unsafe-to-monitor, difficult-to-monitor, or inaccessible is exempt from the requirements as specified in paragraphs (f)(1)(i) through (iv) of this section provided the owner or operator meets the requirements specified in paragraph (f)(2), (3), or (4) of this section, as applicable. All equipment, except connectors that meet the requirements in paragraph (f)(4) of this section, must be assigned to a group of processes. Ceramic or ceramic-lined connectors are subject to the same requirements as inaccessible connectors.

(i) For pumps and agitators, paragraphs (c)(2), (3), and (4) of this section do not apply.

(ii) For valves, paragraphs (e)(2) through (7) of this section do not apply.

(iii) For connectors, § 63.174(b) through (e) and paragraphs (b)(3)(iii)(C) through (G) of this section do not apply.

(iv) For closed-vent systems, § 63.172(f)(1), (f)(2), and (g) do not apply.

(2) Equipment that is unsafe-to-monitor.

(i) Valves, connectors, agitators, and any part of closed-vent systems may be designated as unsafe-to-monitor if the owner or operator determines that monitoring personnel would be exposed to an immediate danger as a consequence of complying with the monitoring requirements identified in paragraphs (f)(1)(i) through (iii) of this section, or the inspection requirements identified in paragraph (f)(1)(iv) of this section.

(ii) The owner or operator of equipment that is designated as unsafe-to-monitor must have a written plan that requires monitoring of the equipment as frequently as practicable during safe-to-monitor times. For valves, connectors, and agitators, monitoring shall not be more frequent than the periodic monitoring schedule otherwise applicable to the group of processes in which the equipment is located. For closed-vent systems, inspections shall not be more frequent than annually.

(3) Equipment that is difficult-to-monitor.

(i) A valve, agitator, pump, or any part of a closed-vent system may be designated as difficult-to-monitor if the owner or operator determines that the equipment cannot be monitored or inspected without elevating the monitoring personnel more than 2 meters above a support surface or the equipment is not accessible in a safe manner when it is in organic HAP service;

(ii) At a new affected source, an owner or operator may designate no more than 3 percent of valves as difficult-to-monitor.

(iii) The owner or operator of valves, agitators, or pumps designated as difficult-to-monitor must have a written plan that requires monitoring of the equipment at least once per calendar year or on the periodic monitoring schedule otherwise applicable to the group of processes in which the equipment is located, whichever is less frequent. For any part of a closed-vent system designated as difficult-to-monitor, the owner or operator must have a written plan that requires inspection of the closed-vent system at least once every 5 years.

(4) Inaccessible, ceramic, or ceramic-lined connectors.

(i) A connector may be designated as inaccessible if it is:

(A) Buried;

(B) Insulated in a manner that prevents access to the equipment by a monitor probe;

(C) Obstructed by equipment or piping that prevents access to the equipment by a monitor probe;

(D) Unable to be reached from a wheeled scissor-lift or hydraulic-type scaffold which would allow access to equipment up to 7.6 meters above the ground; or

(E) Not able to be accessed at any time in a safe manner to perform monitoring. Unsafe access includes, but is not limited to, the use of a wheeled scissor-lift on unstable or uneven terrain, the use of a motorized man-lift basket in areas where an ignition potential exists, or access would require near proximity to hazards such as electrical lines, or would risk damage to equipment.

(F) Would require elevating the monitoring personnel more than 2 meters above a permanent support surface or would require the erection of scaffold.

(ii) At a new affected source, an owner or operator may designate no more than 3 percent of connectors as inaccessible.

(iii) If any inaccessible, ceramic, or ceramic-lined connector is observed by visual, audible, olfactory, or other means to be leaking, the leak shall be repaired as soon as practicable, but no later than 15 calendar days after the leak is detected, except as provided in paragraph (b)(3)(i) of this section.

(iv) Any connector that is inaccessible or that is ceramic or ceramic-lined is exempt from the recordkeeping and reporting requirements of paragraphs (g) and (h) of this section.

(g) * * *

(2) * * *

(vi) A list of equipment designated as unsafe-to-monitor or difficult-to-monitor under paragraph (f) of this section and a copy of the plan for monitoring this equipment.

* * * * *

6. Section 63.1365 is amended by:

a. Revising paragraph (a)(1)(iii);

b. Revising paragraph (a)(2);

c. Revising paragraph (a)(5);

d. Revising paragraph (a)(6);

e. Revising paragraph (a)(7)(i) introductory text;

f. Revising paragraphs (a)(7)(i)(A) and (C);

g. Revising paragraph (a)(7)(ii);

h. Revising paragraph (b) introductory text;

i. Revising paragraph (b)(8);

j. Revising paragraph (b)(11) introductory text;

k. Revising paragraph (b)(11)(iii) introductory text;

l. Revising “paragraph (b)(1)(i)(B) of this section” to read “paragraph (b)(11)(i)(B) of this section” in the last sentence of paragraph (b)(11)(iii)(A);

m. Adding paragraph (b)(11)(iii)(D);

n. Revising paragraph (b)(11)(iv);

o. Removing paragraph (b)(12);

p. Revising paragraph (c)(1)(iii) and (v);

q. Revising paragraph (c)(2)(i)(C);

r. Revising paragraphs (c)(2)(i)(D)(4)(i) and (iii);

s. Revising paragraphs (c)(2)(i)(E)(3) and (4);

t. Revising paragraph (c)(2)(i)(F);

u. Revising paragraph (c)(2)(ii) introductory text and paragraph (c)(2)(ii)(A);

v. Revising paragraph (c)(3)(ii)(A);

w. Revising paragraph (c)(3)(iii) introductory text;

x. Revising paragraphs (d)(1)(i)(A) and (B);

y. Revising paragraph (d)(3)(ii);

z. Revising paragraph (e);

aa. Revising “§ 63.1362(h)(2)” to read “§ 63.1362(g)(2)” and revising “§ 63.1362(h)(3)” to read “§ 63.1362(g)(3)” in paragraph (g) introductory text;

bb. Revising “§ 63.1362(h)(2)” to read “§ 63.1362(g)(2)” in paragraph (g)(3)(i);

cc. Revising “§ 63.1362(h)(3)(i)” to read “§ 63.1362(g)(3)(i)” in paragraph (g)(3)(ii);

dd. Revising “§ 63.1362(h)(3)(ii)” to read “§ 63.1362(g)(3)(ii)” in paragraph (g)(4) introductory text;

ee. Revising “§ 63.1362(h)(3)(ii)(A)” to read “§ 63.1362(g)(3)(ii)(A)” in paragraph (g)(4)(i); and

ff. Revising “§ 63.1362(i)(3)(ii)(A)” to read “§ 63.1362(g)(3)(iii)(A)” in paragraph (g)(4)(ii).

The revisions and additions read as follows:

§ 63.1365 Test methods and initial compliance procedures.

(a) * * *

(1) * * *

(iii) For a condenser, the design evaluation must consider the vent stream flow rate, relative humidity, and temperature, and must establish the maximum temperature of the condenser exhaust vent stream and the corresponding outlet organic HAP compound concentration level or emission rate for which the required reduction is achieved.

* * * * *

(2) Calculation of TOC or total organic HAP concentration. The TOC concentration or total organic HAP concentration is the sum of the concentrations of the individual components. If compliance is being determined based on TOC, the owner or operator shall compute TOC for each run using Equation 6 of this subpart. If compliance is being determined based on total organic HAP, the owner or operator shall compute total organic HAP using Equation 6 of this subpart, except that only organic HAP compounds shall be summed; when determining compliance with the wastewater provisions of § 63.1362(d), the organic HAP compounds shall consist of the organic HAP compounds in Table 9 of subpart G of this part.

Where:

CGT = total concentration of TOC or organic HAP in vented gas stream, average of samples, dry basis, ppmv

CGSi,j = concentration of sample components in vented gas stream for sample j, dry basis, ppmv

n = number of compounds in the sample

m = number of samples in the sample run.

* * * * *

(5) Initial compliance with alternative standard. Initial compliance with the alternative standards in § 63.1362(b)(6) and (c)(4) for combustion devices is demonstrated when the outlet TOC concentration is 20 ppmv or less, and the outlet HCl and chlorine concentration is 20 ppmv or less. Initial compliance with the alternative standards in § 63.1362(b)(6) and (c)(4) for noncombustion devices is demonstrated when the outlet TOC concentration is 50 ppmv or less, and the outlet HCl and chlorine concentration is 50 ppmv or less. To demonstrate initial compliance, the owner or operator shall be in compliance with the monitoring provisions in § 63.1366(b)(5) on the initial compliance date. The owner or operator shall use Method 18 to determine the predominant organic HAP in the emission stream if the TOC monitor is calibrated on the predominant HAP.

(6) Initial compliance with the 20 ppmv outlet limit. Initial compliance with the 20 ppmv TOC or total organic HAP concentration is demonstrated when the outlet TOC or total organic HAP concentration is 20 ppmv or less. Initial compliance with the 20 ppmv HCl and chlorine concentration is demonstrated when the outlet HCl and chlorine concentration is 20 ppmv or less. To demonstrate initial compliance, the operator shall use applicable test methods described in paragraphs (b)(1) through (9) of this section, and test under conditions described in paragraph (b)(10) or (11) of this section, as applicable. The owner or operator shall comply with the monitoring provisions in § 63.1366(b)(1) through (5) on the initial compliance date.

(7) * * *

(i) Combustion device. Except as specified in § 63.1366(b)(5)(ii)(A), if the vent stream is controlled with a combustion device, the owner or operator must comply with the provisions in paragraphs (a)(7)(i)(A) through (C) of this section.

(A) To comply with a TOC or total organic HAP outlet concentration standard in § 63.1362(b)(2)(iv)(A), (b)(4)(ii)(A), (b)(6), (c)(2)(iv)(B), (c)(4), (d)(13), or § 63.172, the actual TOC outlet concentration must be corrected to 3 percent oxygen.

* * * * *

(C) The integrated sampling and analysis procedures of Method 3B of 40 CFR part 60, appendix A, shall be used to determine the actual oxygen concentration (%O2d). The samples shall be taken during the same time that the TOC, total organic HAP, and total HCl and chlorine samples are taken. The concentration corrected to 3 percent oxygen (Cd) shall be computed using Equation 7 of this subpart:

Where:

Cc = concentration of TOC, total organic HAP, or total HCl and chlorine corrected to 3 percent oxygen, dry basis, ppmv

Cm = total concentration of TOC, total organic HAP, or total HCl and chlorine in the vented gas stream, average of samples, dry basis, ppmv

%O2d = concentration of oxygen measured in vented gas stream, dry basis, percent by volume.

(ii) Noncombustion devices. If a control device other than a combustion device, and not in series with a combustion device, is used to comply with a TOC, total organic HAP, or total HCl and chlorine outlet concentration standard, the owner or operator must correct the actual concentration for supplemental gases using Equation 8 of this subpart.

Where:

Ca = corrected outlet TOC, total organic HAP, or total HCl and chlorine concentration, dry basis, ppmv

Cm = actual TOC, total organic HAP, or total HCl and chlorine concentration measured at control device outlet, dry basis, ppmv

Va = total volumetric flow rate of affected streams vented to the control device

Vs = total volumetric flow rate of supplemental gases.

(b) Test methods and conditions. When testing is conducted to measure emissions from an affected source, the test methods specified in paragraphs (b)(1) through (9) of this section shall be used. Compliance tests shall be performed under conditions specified in paragraphs (b)(10) and (11) of this section.

* * * * *

(8) Wastewater analysis shall be conducted in accordance with § 63.144(b)(5)(i) through (iii) or as specified in paragraph (b)(8)(i) or (ii) of this section.

(i) As an alternative to the methods specified in § 63.144(b)(5)(i), an owner or operator may conduct wastewater analyses using Method 1666 or 1671 of 40 CFR part 136, appendix A, and comply with the sampling protocol requirements specified in § 63.144(b)(5)(ii). The validation requirements specified in § 63.144(b)(5)(iii) do not apply if an owner or operator uses Method 1666 or 1671 of 40 CFR part 136, appendix A.

(ii) As an alternative to the methods specified in § 63.144(b)(5)(i), an owner or operator may use procedures specified in Method 8260 or 8270 in “Test Methods for Evaluating Solid Waste, Physical/Chemical Methods,” EPA Publication No. SW-846, Third Edition, September 1986, as amended by Update I, November 15, 1992. An owner or operator also may use any more recent, updated version of Method 8260 or 8270 approved by EPA. For the purpose of using Method 8260 or 8270 to comply with this subpart, the owner or operator must maintain a formal quality assurance program consistent with either Section 8 of Method 8260 or Method 8270. This program must include the elements related to measuring the concentrations of volatile compounds that are specified in paragraphs (b)(8)(ii)(A) through (C) of this section.

(A) Documentation of site-specific procedures to minimize the loss of compounds due to volatilization, biodegradation, reaction, or sorption during the sample collection, storage, and preparation steps.

(B) Documentation of specific quality assurance procedures followed during sampling, sample preparation, sample introduction, and analysis.

(C) Measurement of the average accuracy and precision of the specific procedures, including field duplicates and field spiking of the material source before or during sampling with compounds having similar chemical characteristics to the target analytes.

* * * * *

(11) Testing conditions for batch processes. Testing of emissions on equipment where the flow of gaseous emissions is intermittent (batch operations) shall be conducted at absolute peak-case conditions or hypothetical peak-case conditions, as specified in paragraphs (b)(11)(i) and (ii) of this section, respectively. Gas stream volumetric flow rates shall be measured at 15-minute intervals. Organic HAP, TOC, or HCl and chlorine concentration shall be determined from samples collected in an integrated sample over the duration of the test, or from grab samples collected simultaneously with the flow rate measurements (every 15 minutes). If an integrated sample is collected for laboratory analysis, the sampling rate shall be adjusted proportionally to reflect variations in flow rate. In all cases, a site-specific test plan shall be submitted to the Administrator for approval prior to testing in accordance with § 63.7(c). The test plan shall include the emissions profile described in paragraph (b)(11)(iii) of this section. The term “HAP mass loading” as used in paragraphs (b)(11)(i) through (iii) of this section refers to the class of HAP, either organic or HCl and chlorine, that the control device is intended to control.

* * * * *

(iii) Emissions profile. The owner or operator may choose to perform tests only during those periods of the peak-case episode(s) that the owner or operator selects to control as part of achieving the required emission reduction. Except as specified in paragraph (b)(11)(iii)(D) of this section, the owner or operator shall develop an emission profile for the vent to the control device that describes the characteristics of the vent stream at the inlet to the control device under either absolute or hypothetical peak-case conditions. The emissions profile shall be developed based on the applicable procedures described in paragraphs (b)(11)(iii)(A) through (C) of this section, as required by paragraphs (b)(11)(i) and (ii) of this section.

* * * * *

(D) Exemptions. The owner or operator is not required to develop an emission profile under the circumstances described in paragraph (b)(11)(iii)(D)(1) or (2) of this section.

(1) If all process vents for a process are controlled using a control device or series of control devices that reduce HAP emissions by 98 percent or more, no other emission streams are vented to the control device when it is used to control emissions from the subject process, and the performance test is conducted over the entire batch cycle.

(2) If a control device is used to comply with the outlet concentration limit for process vent emission streams from a single process (but not necessarily all of the process vents from that process), no other emission streams are vented to the control device while it is used to control emissions from the subject process, and the performance test is conducted over the entire batch cycle.

(iv) Test duration. Three runs, at a minimum of 1 hour each, are required for performance testing. When complying with a percent reduction standard, each test run may be a maximum of either 24 hours or the duration of the longest batch controlled by the control device, whichever is shorter, and each run must include the same absolute or hypothetical peak-case conditions, as defined in paragraph (b)(11)(i) or (ii) of this section. When complying with an outlet concentration limit, each run must include the same absolute or hypothetical peak-case conditions, as defined in paragraph (b)(11)(i) or (ii) of this section, and the duration of each run may not exceed the duration of the applicable peak-case condition.

(c) * * *

(1) * * *

(iii) Initial compliance with the organic HAP percent reduction requirements specified in § 63.1362(b)(2)(ii), (iii), and (b)(4)(ii) is demonstrated by determining controlled HAP emissions using the procedures described in paragraph (c)(3) of this section, determining uncontrolled HAP emissions using the procedures described in paragraph (c)(2) of this section, and calculating the applicable percent reduction. As an alternative, if the conditions specified in paragraph (b)(11)(iii)(D)(1) of this section are met, initial compliance may be demonstrated by showing the control device reduces emissions by 98 percent by weight or greater using the procedures specified in paragraph (c)(3) of this section.

* * * * *

(v) Initial compliance with the outlet concentration limits in § 63.1362(b)(2)(iv)(A), (b)(3)(ii), (b)(4)(ii)(A), (b)(5)(ii) and (iii) is demonstrated when the outlet TOC or total organic HAP concentration is 20 ppmv or less and the outlet HCl and chlorine concentration is 20 ppmv or less. The owner or operator shall demonstrate compliance by fulfilling the requirements in paragraph (a)(6) of this section. If an owner or operator elects to develop an emissions profile by process as described in paragraph (b)(11)(iii)(A) of this section, uncontrolled emissions shall be determined using the procedures in paragraph (c)(2) of this section.

* * * * *

(2) * * *

(i) * * *

(C) Purging. Emissions from purging shall be calculated using Equation 10 of this subpart, except that for purge flow rates greater than 100 scfm, the mole fraction of HAP will be assumed to be 25 percent of the saturated value.

Where:

E = mass of HAP emitted

V = purge flow rate at the temperature and pressure of the vessel vapor space

R = ideal gas law constant

T = temperature of the vessel vapor space; absolute

Pi = partial pressure of the individual HAP

Pj = partial pressure of individual condensable compounds (including HAP)

PT = pressure of the vessel vapor space

MWi = molecular weight of the individual HAP

t = time of purge

n = number of HAP compounds in the emission stream

m = number of condensable compounds (including HAP) in the emission stream.

(D) * * *

(4) * * *

(i) As an alternative to the procedures described in paragraphs (c)(2)(i)(D)(1) and (2) of this section, emissions caused by heating a vessel to any temperature less than the boiling point may be calculated using Equation 15 of this subpart.

Where:

E = mass of HAP vapor displaced from the vessel being heated

Navg = average gas space molar volume during the heating process, as calculated using Equation 16 of this subpart

PT = total pressure in the vessel

Pi,1 = partial pressure of the individual HAP compounds at T1

Pi,2 = partial pressure of the individual HAP compounds at T2

MWHAP = average molecular weight of the HAP compounds, as calculated using Equation 14 of this subpart

nHAP,1 = number of moles of total HAP in the vessel headspace at T1

nHAP,2 = number of moles of total HAP in the vessel headspace at T2

m = number of HAP compounds in the emission stream.

* * * * *

(iii) The difference in the number of moles of total HAP in the vessel headspace between the initial and final temperatures is calculated using Equation 17 of this subpart.

Where:

nHAP,2 = number of moles of total HAP in the vessel headspace at T2

nHAP,1 = number of moles of total HAP in the vessel headspace at T1

V = volume of free space in vessel

R = ideal gas law constant

T1 = initial temperature of the vessel contents, absolute

T2 = final temperature of the vessel contents, absolute

Pi,1 = partial pressure of the individual HAP compounds at T1

Pi,2 = partial pressure of the individual HAP compounds at T2

n = number of HAP compounds in the emission stream.

(E) * * *

(3) The initial and final partial pressures of the noncondensable gas in the vessel are determined using Equations 21 and 22 of this subpart.

Where:

Pnc1 = initial partial pressure of the noncondensable gas

Pnc2 = final partial pressure of the noncondensable gas

P1 = initial vessel pressure

P2 = final vessel pressure

Pj* = vapor pressure of each condensable compound (including HAP) in the emission stream

xj = mole fraction of each condensable compound (including HAP) in the liquid phase

m = number of condensable compounds (including HAP) in the emission stream.

(4) The moles of HAP emitted during the depressurization are calculated by taking an approximation of the average ratio of moles of HAP to moles of noncondensable and multiplying by the total moles of noncondensables released during the depressurization, using Equation 23 of this subpart:

Where:

nHAP,e = moles of HAP emitted

nHAP,1 = moles of HAP vapor in vessel at the initial pressure, as calculated using Equation 18 of this subpart

nHAP,2 = moles of HAP vapor in vessel at the final pressure, as calculated using Equation 18 of this subpart

n1 = initial number of moles of noncondensable gas in the vessel, as calculated using Equation 19 of this subpart

n2 = final number of moles of noncondensable gas in the vessel, as calculated using Equation 19 of this subpart.

* * * * *

(F) Vacuum systems. Calculate emissions from vacuum systems using Equation 26 of this subpart:

Where:

E = mass of HAP emitted

PT = absolute pressure of receiving vessel or ejector outlet conditions, if there is no receiver

Pi = partial pressure of individual HAP at the receiver temperature or the ejector outlet conditions

Pj = partial pressure of individual condensable compounds (including HAP) at the receiver temperature or the ejector outlet conditions

La = total air leak rate in the system, mass/time

MWnc = molecular weight of noncondensable gas

t = time of vacuum operation

MWHAP = average molecular weight of HAP in the emission stream, as calculated using Equation 14 of this subpart, with HAP partial pressures calculated at the temperature of the receiver or ejector outlet, as appropriate

n = number of HAP components in the emission stream

m = number of condensable compounds (including HAP) in the emission stream.

* * * * *

(ii) Engineering assessments. The owner or operator shall conduct an engineering assessment to determine uncontrolled HAP emissions for each emission episode that is not due to vapor displacement, purging, heating, depressurization, vacuum systems, gas evolution, or air drying. For a given emission episode caused by any of these seven types of activities, the owner or operator also may request approval to determine uncontrolled HAP emissions based on an engineering assessment. Except as specified in paragraph (c)(2)(ii)(A) of this section, all data, assumptions, and procedures used in the engineering assessment shall be documented in the Precompliance plan in accordance with § 63.1367(b). An engineering assessment includes, but is not limited to, the information and procedures described in paragraphs (c)(2)(ii)(A) through (D) of this section.

(A) Test results, provided the tests are representative of current operating practices at the process unit. For process vents without variable emission stream characteristics, an engineering assessment based on the results of a previous test may be submitted in the Notification of Compliance Status report instead of the Precompliance plan. Results from a previous test of process vents with variable emission stream characteristics will be acceptable in place of values estimated using the procedures specified in paragraph (c)(2)(i) of this section if the test data show a greater than 20 percent discrepancy between the test value and the estimated value, and the results of the engineering assessment shall be included in the Notification of Compliance Status report. For other process vents with variable emission stream characteristics, engineering assessments based on the results of a previous test must be submitted in the Precompliance plan. For engineering assessments based on new tests, the owner or operator must comply with the test notification requirements in § 63.1368(m), and the results of the engineering assessment may be submitted in the Notification of Compliance Status report rather than the Precompliance plan.

(3) * * *

(ii) * * *

(A) Performance test measurements shall be conducted at both the inlet and outlet of the control device for TOC, total organic HAP, and total HCl and chlorine, as applicable, using the test methods and procedures described in paragraph (b) of this section. Concentrations shall be calculated from the data obtained through emission testing according to the procedures in paragraph (a)(2) of this section.

* * * * *

(iii) Condensers. The owner or operator using a condenser as a control device shall determine controlled emissions for each batch emission episode according to the engineering methodology in paragraphs (c)(3)(iii)(A) through (G) of this section. The owner or operator must establish the maximum outlet gas temperature and calculate the controlled emissions using this temperature in the applicable equation. Individual HAP partial pressures shall be calculated as specified in paragraph (c)(2)(i) of this section.

* * * * *

(d) * * *

(1) * * *

(i) * * *

(A) At the reasonably expected maximum filling rate, Equations 35 and 36 of this subpart shall be used to calculate the mass rate of total organic HAP or TOC at the inlet and outlet of the control device.

Where:

Cij, Coj = concentration of sample component j of the gas stream at the inlet and outlet of the control device, respectively, dry basis, ppmv

Ei, Eo = mass rate of total organic HAP or TOC at the inlet and outlet of the control device, respectively, dry basis, kg/hr

Mij, Moj = molecular weight of sample component j of the gas stream at the inlet and outlet of the control device, respectively, g/gmole

Qi, Qo = flow rate of gas stream at the inlet and outlet of the control device, respectively, dscmm

K2 = constant, 2.494 × 10⁻⁶ (parts per million)⁻¹ (gram-mole per standard cubic meter) (kilogram/gram) (minute/hour), where standard temperature is 20 °C.

(B) The percent reduction in total organic HAP or TOC shall be calculated using Equation 37 of this subpart:

Where:

R = control efficiency of control device, percent

Ei = mass rate of total organic HAP or TOC at the inlet to the control device as calculated under paragraph (d)(l)(i)(A) of this section, kilograms organic HAP per hour

Eo = mass rate of total organic HAP or TOC at the outlet of the control device, as calculated under paragraph (d)(1)(i)(A) of this section, kilograms organic HAP per hour.

* * * * *

(3) * * *

(ii) Comply with the procedures described in § 63.120(a), (b), or (c), as applicable, with the differences specified in paragraphs (d)(3)(ii)(A) through (C) of this section.

(A) When the term “storage vessel” is used in § 63.120, the definition of the term “storage vessel” in § 63.1361 shall apply for the purposes of this subpart.

(B) When the phrase “the compliance date specified in § 63.100 of subpart F of this part” is referred to in § 63.120, the phrase “the compliance date specified in § 63.1364” shall apply for the purposes of this subpart.

(C) When the phrase “the maximum true vapor pressure of the total organic HAP in the stored liquid falls below the values defining Group 1 storage vessels specified in Table 5 or Table 6 of this subpart” is referred to in § 63.120(b)(1)(iv), the phrase “the maximum true vapor pressure of the total organic HAP in the stored liquid falls below the values defining Group 1 storage vessels specified in § 63.1361” shall apply for the purposes of this subpart.

* * * * *

(e) Initial compliance with wastewater provisions. The owner or operator shall demonstrate initial compliance with the wastewater requirements by complying with the applicable provisions in § 63.145, except that the owner or operator need not comply with the requirement to determine visible emissions that is specified in § 63.145(j)(1), and references to compounds in Table 8 of subpart G of this part are not applicable for the purposes of this subpart. When § 63.145(i) refers to Method 18 of 40 CFR part 60, appendix A-6, the owner or operator may use any method specified in § 63.1362(d)(12) to demonstrate initial compliance with this subpart.

* * * * *

7. Section 63.1366 is amended by:

a. Revising paragraph (b)(5);

b. Revising the first sentence of paragraph (b)(8) introductory text;

c. Revising paragraph (b)(8)(iii); and

d. Adding paragraph (h).

The revisions and additions read as follows:

§ 63.1366 Monitoring and inspection requirements.

* * * * *

(b) * * *

(5) Monitoring for the alternative standards.

(i) For control devices that are used to comply with the provisions of § 63.1362(b)(6) and (c)(4), the owner or operator shall monitor and record the outlet TOC concentration and the outlet total HCl and chlorine concentration at least once every 15 minutes during the period in which the device is controlling HAP from emission streams subject to the standards in § 63.1362. A TOC monitor meeting the requirements of Performance Specification 8 or 9 of appendix B of 40 CFR part 60 shall be installed, calibrated, and maintained, according to § 63.8. The owner or operator need not monitor the total HCl and chlorine concentration if the owner or operator determines that the emission stream does not contain HCl or chlorine. The owner or operator need not monitor for TOC concentration if the owner or operator determines that the emission stream does not contain organic compounds.

(ii) If supplemental gases are introduced before the control device, the owner or operator must either correct for supplemental gases as specified in § 63.1365(a)(7) or, if using a combustion control device, comply with the requirements of paragraph (b)(5)(ii)(A) of this section. If the owner or operator corrects for supplemental gases as specified in § 63.1365(a)(7)(ii) for non-combustion control devices, the flow rates must be evaluated as specified in paragraph (b)(5)(ii)(B) of this section.

(A) Provisions for combustion devices. As an alternative to correcting for supplemental gases as specified in § 63.1365(a)(7), the owner or operator may monitor residence time and firebox temperature according to the requirements of paragraphs (b)(5)(ii)(A)(1) and (2) of this section. Monitoring of residence time may be accomplished by monitoring flow rate into the combustion chamber.

(1) If complying with the alternative standard instead of achieving a control efficiency of 95 percent or less, the owner or operator must maintain a minimum residence time of 0.5 seconds and a minimum combustion chamber temperature of 760 °C.

(2) If complying with the alternative standard instead of achieving a control efficiency of 98 percent, the owner or operator must maintain a minimum residence time of 0.75 seconds and a minimum combustion chamber temperature of 816 °C.

(B) Flow rate evaluation for non-combustion devices. To demonstrate continuous compliance with the requirement to correct for supplemental gases as specified in § 63.1365(a)(7)(ii) for non-combustion devices, the owner or operator must evaluate the volumetric flow rate of supplemental gases, Vs, and the volumetric flow rate of all gases, Va, each time a new operating scenario is implemented based on process knowledge and representative operating data. The procedures used to evaluate the flow rates, and the resulting correction factor used in Equation 8 of this subpart, must be included in the Notification of Compliance Status report and in the next Periodic report submitted after an operating scenario change.

* * * * *

(8) Violations. Exceedances of parameters monitored according to the provisions of paragraphs (b)(1)(ii), (iv) through (ix), and (b)(5)(i)(A) of this section, or excursions as defined by paragraphs (b)(7)(i) and (ii) of this section, constitute violations of the operating limit according to paragraphs (b)(8)(i), (ii), and (iv) of this section. * * *

* * * * *

(iii) Except as provided in paragraph (b)(8)(iv) of this section, exceedances of the 20 or 50 ppmv TOC outlet emission limit, averaged over the operating day, will result in no more than one violation per day per control device. Except as provided in paragraph (b)(8)(iv) of this section, exceedances of the 20 or 50 ppmv HCl and chlorine outlet emission limit, averaged over the operating day, will result in no more than one violation per day per control device.

* * * * *

(h) Leak inspection provisions for vapor suppression equipment.

(1) Except as provided in paragraphs (h)(9) and (10) of this section, for each vapor collection system, closed-vent system, fixed roof, cover, or enclosure required to comply with this section, the owner or operator shall comply with the requirements of paragraphs (h)(2) through (8) of this section.

(2) Except as provided in paragraphs (h)(6) and (7) of this section, each vapor collection system and closed-vent system shall be inspected according to the procedures and schedule specified in paragraphs (h)(2)(i) and (ii) of this section and each fixed roof, cover, and enclosure shall be inspected according to the procedures and schedule specified in paragraph (h)(2)(iii) of this section.

(i) If the vapor collection system or closed-vent system is constructed of hard-piping, the owner or operator shall:

(A) Conduct an initial inspection according to the procedures in paragraph (h)(3) of this section, and

(B) Conduct annual visual inspections for visible, audible, or olfactory indications of leaks.

(ii) If the vapor collection system or closed-vent system is constructed of ductwork, the owner or operator shall:

(A) Conduct an initial inspection according to the procedures in paragraph (h)(3) of this section,

(B) Conduct annual inspections according to the procedures in paragraph (h)(3) of this section, and

(C) Conduct annual visual inspections for visible, audible, or olfactory indications of leaks.

(iii) For each fixed roof, cover, and enclosure, the owner or operator shall:

(A) Conduct an initial inspection according to the procedures in paragraph (h)(3) of this section, and

(B) Conduct semiannual visual inspections for visible, audible, or olfactory indications of leaks.

(3) Each vapor collection system, closed-vent system, fixed roof, cover, and enclosure shall be inspected according to the procedures specified in paragraphs (h)(3)(i) through (vi) of this section.

(i) Inspections shall be conducted in accordance with Method 21 of 40 CFR part 60, appendix A.

(ii) Detection instrument performance criteria.

(A) Except as provided in paragraph (h)(3)(ii)(B) of this section, the detection instrument shall meet the performance criteria of Method 21 of 40 CFR part 60, appendix A, except the instrument response factor criteria in section 3.1.2(a) of Method 21 shall be for the average composition of the process fluid not each individual VOC in the stream. For process streams that contain nitrogen, air, or other inerts which are not organic HAP or VOC, the average stream response factor shall be calculated on an inert-free basis.

(B) If no instrument is available at the plant site that will meet the performance criteria specified in paragraph (h)(3)(ii)(A) of this section, the instrument readings may be adjusted by multiplying by the average response factor of the process fluid, calculated on an inert-free basis as described in paragraph (h)(3)(ii)(A) of this section.

(iii) The detection instrument shall be calibrated before use on each day of its use by the procedures specified in Method 21 of 40 CFR part 60, appendix A.

(iv) Calibration gases shall be as follows:

(A) Zero air (less than 10 parts per million hydrocarbon in air); and

(B) Mixtures of methane in air at a concentration less than 10,000 parts per million. A calibration gas other than methane in air may be used if the instrument does not respond to methane or if the instrument does not meet the performance criteria specified in paragraph (h)(2)(ii)(A) of this section. In such cases, the calibration gas may be a mixture of one or more of the compounds to be measured in air.

(v) An owner or operator may elect to adjust or not adjust instrument readings for background. If an owner or operator elects to not adjust readings for background, all such instrument readings shall be compared directly to the applicable leak definition to determine whether there is a leak. If an owner or operator elects to adjust instrument readings for background, the owner or operator shall measure background concentration using the procedures in § 63.180(b) and (c). The owner or operator shall subtract background reading from the maximum concentration indicated by the instrument.

(vi) The arithmetic difference between the maximum concentration indicated by the instrument and the background level shall be compared with 500 parts per million for determining compliance.

(4) Leaks, as indicated by an instrument reading greater than 500 parts per million above background or by visual inspections, shall be repaired as soon as practicable, except as provided in paragraph (h)(5) of this section.

(i) A first attempt at repair shall be made no later than 5 calendar days after the leak is detected.

(ii) Repair shall be completed no later than 15 calendar days after the leak is detected.

(5) Delay of repair of a vapor collection system, closed-vent system, fixed roof, cover, or enclosure for which leaks have been detected is allowed if the repair is technically infeasible without a shutdown, as defined in § 63.1361, or if the owner or operator determines that emissions resulting from immediate repair would be greater than the fugitive emissions likely to result from delay of repair. Repair of such equipment shall be complete by the end of the next shutdown.

(6) Any parts of the vapor collection system, closed-vent system, fixed roof, cover, or enclosure that are designated, as described in § 63.1367(f)(1), as unsafe-to-inspect are exempt from the inspection requirements of paragraphs (h)(2)(i), (ii), and (iii) of this section if:

(i) The owner or operator determines that the equipment is unsafe-to-inspect because inspecting personnel would be exposed to an imminent or potential danger as a consequence of complying with paragraph (h)(2)(i), (ii), or (iii) of this section; and

(ii) The owner or operator has a written plan that requires inspection of the equipment as frequently as practicable during safe-to-inspect times. Inspection is not required more than once annually.

(7) Any parts of the vapor collection system, closed-vent system, fixed roof, cover, or enclosure that are designated, as described in § 63.1367(f)(2), as difficult-to-inspect are exempt from the inspection requirements of paragraphs (h)(2)(i), (ii), and (iii)(A) of this section if:

(i) The owner or operator determines that the equipment cannot be inspected without elevating the inspecting personnel more than 2 meters above a support surface; and

(ii) The owner or operator has a written plan that requires inspection of the equipment at least once every 5 years.

(8) Records shall be maintained as specified in § 63.1367(f).

(9) If a closed-vent system subject to this section is also subject to the equipment leak provisions of § 63.1363, the owner or operator shall comply with the provisions of § 63.1363 and is exempt from the requirements of this section.

(10) For any closed-vent system that is operated and maintained under negative pressure, the owner or operator is not required to comply with the requirements specified in paragraphs (h)(2) through (8) of this section.

8. Section 63.1367 is amended by:

a. Revising “paragraphs (b)(3)(i) through (iii) of this section” to read “paragraphs (a)(3)(i) through (iii) of this section” in paragraph (a)(3) introductory text;

b. Revising paragraph (a)(3)(i);

c. Revising paragraph (b) introductory text;

d. Revising paragraph (b)(4);

e. Revising paragraph (b)(6)(i);

f. Adding paragraph (b)(6)(ix) and revising paragraph (b)(7);

g. Adding paragraphs (b)(8) through (11); and

h. Revising paragraph (f).

The revisions and additions read as follows:

§ 63.1367 Recordkeeping requirements.

(a) * * *

(3) * * *

(i) The owner or operator shall record the occurrence and duration of each malfunction of the process operations or of air pollution control equipment used to comply with this subpart, as specified in § 63.6(e)(3)(iii).

* * * * *

(b) Records of equipment operation. The owner or operator must keep the records specified in paragraphs (b)(1) through (11) of this section up-to-date and readily accessible.

* * * * *

(4) For processes in compliance with the 0.15 Mg/yr emission limit of § 63.1362(b)(2)(i) or (b)(4)(i), daily records of the rolling annual calculations of uncontrolled emissions.

* * * * *

(6) * * *

(i) Except as specified in paragraph (b)(6)(ix) of this section, the initial calculations of uncontrolled and controlled emissions of gaseous organic HAP and HCl per batch for each process.

* * * * *

(ix) As an alternative to the records in paragraph (b)(6)(i) of this section, a record of the determination that the conditions in § 63.1365(b)(11)(iii)(D)(1) or (2) are met.

(7) Daily schedule or log of each operating scenario updated daily or, at a minimum, each time a different operating scenario is put into operation.

(8) If the owner or operator elects to comply with the vapor balancing alternative in § 63.1362(c)(6), the owner or operator must keep records of the DOT certification required by § 63.1362(c)(6)(ii) and the pressure relief vent setting and leak detection records specified in § 63.1362(c)(6)(v).

(9) If the owner or operator elects to develop process unit groups, the owner or operator must keep records of the PAI and non-PAI process units in the process unit group, including records of the operating time for process units used to establish the process unit group. The owner or operator must also keep records of any redetermination of the primary product for the process unit group.

(10) All maintenance performed on the air pollution control equipment.

(11) If the owner or operator elects to comply with § 63.1362(c) by installing a floating roof, the owner or operator must keep records of each inspection and seal gap measurement in accordance with § 63.123(c) through (e) as applicable.

* * * * *

(f) Records of inspections. The owner or operator shall keep records specified in paragraphs (f)(1) through (6) of this section.

(1) Records identifying all parts of the vapor collection system, closed-vent system, fixed roof, cover, or enclosure that are designated as unsafe to inspect in accordance with § 63.1366(h)(6), an explanation of why the equipment is unsafe-to-inspect, and the plan for inspecting the equipment.

(2) Records identifying all parts of the vapor collection system, closed-vent system, fixed roof, cover, or enclosure that are designated as difficult-to-inspect in accordance with § 63.1366(h)(7), an explanation of why the equipment is difficult-to-inspect, and the plan for inspecting the equipment.

(3) For each vapor collection system or closed-vent system that contains bypass lines that could divert a vent stream away from the control device and to the atmosphere, the owner or operator shall keep a record of the information specified in either paragraph (f)(3)(i) or (ii) of this section.

(i) Hourly records of whether the flow indicator specified under § 63.1362(j)(1) was operating and whether a diversion was detected at any time during the hour, as well as records of the times and durations of all periods when the vent stream is diverted from the control device or the flow indicator is not operating.

(ii) Where a seal mechanism is used to comply with § 63.1362(j)(2), hourly records of flow are not required. In such cases, the owner or operator shall record that the monthly visual inspection of the seals or closure mechanisms has been done and shall record the occurrence of all periods when the seal mechanism is broken, the bypass line valve position has changed, or the key for a lock-and-key type lock has been checked out, and records of any car-seal that has broken.

(4) For each inspection conducted in accordance with § 63.1366(h)(2) and (3) during which a leak is detected, a record of the information specified in paragraphs (f)(4)(i) through (ix) of this section.

(i) Identification of the leaking equipment.

(ii) The instrument identification numbers and operator name or initials, if the leak was detected using the procedures described in § 63.1366(h)(3); or a record of that the leak was detected by sensory observations.

(iii) The date the leak was detected and the date of the first attempt to repair the leak.

(iv) Maximum instrument reading measured by the method specified in § 63.1366(h)(4) after the leak is successfully repaired or determined to be nonrepairable.

(v) “Repair delayed” and the reason for the delay if a leak is not repaired within 15 calendar days after discovery of the leak.

(vi) The name, initials, or other form of identification of the owner or operator (or designee) whose decision it was that repair could not be effected without a shutdown.

(vii) The expected date of successful repair of the leak if a leak is not repaired within 15 calendar days.

(viii) Dates of shutdowns that occur while the equipment is unrepaired.

(ix) The date of successful repair of the leak.

(5) For each inspection conducted in accordance with § 63.1366(h)(3) during which no leaks are detected, a record that the inspection was performed, the date of the inspection, and a statement that no leaks were detected.

(6) For each visual inspection conducted in accordance with § 63.1366(h)(2)(i)(B) or (iii)(B) of this section during which no leaks are detected, a record that the inspection was performed, the date of the inspection, and a statement that no leaks were detected.

* * * * *

9. Section 63.1368 is amended by:

a. Revising paragraph (e)(4);

b. Revising paragraph (f)(6);

c. Adding paragraph (f)(9);

d. Revising paragraph (g)(1) introductory text;

e. Revising paragraph (g)(2) introductory text;

f. Adding paragraphs (g)(2)(ix) through (xii);

g. Revising paragraph (h)(1) introductory text;

h. Revising “§ 63.1365(b)(10)(ii)” to read “§ 63.1365(b)(11)(iii)” in paragraph (m).

The revisions and additions read as follows:

§ 63.1368 Reporting requirements.

* * * * *

(e) * * *

(4) For owners and operators complying with the requirements of § 63.1362(g), the pollution prevention demonstration summary required in § 63.1365(g)(1).

* * * * *

(f) * * *

(6) Identification of emission points subject to overlapping requirements described in § 63.1360(i) and the authority under which the owner or operator will comply, and identification of emission sources discharging to devices described by § 63.1362(l).

* * * * *

(9) Records of the initial process units used to create each process unit group, if applicable.

(g) * * *

(1) Submittal schedule. Except as provided in paragraphs (g)(1)(i) and (ii) of this section, the owner or operator shall submit Periodic reports semiannually. The first report shall be submitted no later than 240 days after the date the Notification of Compliance Status report is due and shall cover the 6-month period beginning on the date the Notification of Compliance Status report is due. Each subsequent Periodic report shall cover the 6-month period following the preceding period and shall be submitted no later than 60 days after the end of the applicable period.

* * * * *

(2) Content of periodic report. The owner or operator shall include the information in paragraphs (g)(2)(i) through (xii) of this section, as applicable.

* * * * *

(ix) Records of process units added to each process unit group, if applicable.

(x) Records of redetermination of the primary product for a process unit group.

(xi) For each inspection conducted in accordance with § 63.1366(h)(2) or (3) during which a leak is detected, the records specify in § 63.1367(h)(4) must be included in the next Periodic report.

(xii) If the owner or operator elects to comply with the provisions of § 63.1362(c) by installing a floating roof, the owner or operator shall submit the information specified in § 63.122(d) through (f) as applicable. References to § 63.152 in § 63.122 shall not apply for the purposes of this subpart.

(h) * * *

(1) Except as specified in paragraph (h)(2) of this section, whenever a process change is made, or any of the information submitted in the Notification of Compliance Status report changes, the owner or operator shall submit the information specified in paragraphs (h)(1)(i) through (iv) of this section with the next Periodic report required under paragraph (g) of this section. For the purposes of this section, a process change means the startup of a new process, as defined in § 63.1361.

* * * * *

10. Table 1 to subpart MMM is amended by:

a. Removing entry “63.9(i)-(j);” and

b. Adding the entries “63.9(i)” and “63.9(j)” in it's place.

The additions read as follows:

Table 1 to Subpart MMM of Part 63.—General Provisions Applicability to Subpart MMM
Reference to subpart A | Applies to subpart MMM | Explanation
* * * * * * *
63.9(i) | Yes.
63.9(j) | No | § 63.1368(h) specifies procedures for notification of changes.
* * * * * * *

11. Table 4 to subpart MMM is revised to read as follows:

Table 4 to Subpart MMM.—Control Requirements for Items of Equipment That Meet the Criteria of § 63.1362(k)
Item of equipment | Control requirement ᵃ
1. Drain or drain hub | (a) Tightly fitting solid cover (TFSC); or (b) TFSC with a vent to either a process, or to a control device meeting the requirements of § 63.139(c); or (c) Water seal with submerged discharge or barrier to protect discharge from wind.
2. Manholeᵇ | (a) TFSC; or (b) TFSC with a vent to either a process or to a control device meeting the requirements of § 63.139(c); or (c) If the item is vented to the atmosphere, use a TFSC with a properly operating water seal at the entrance or exit to the item to restrict ventilation in the collection system. The vent pipe shall be at least 90 cm in length and not exceeding 10.2 cm in nominal inside diameter.
3. Lift station | (a) TFSC; or (b) TFSC with a vent to either a process, or to a control device meeting the requirements of § 63.139(c); or (c) If the lift station is vented to the atmosphere, use a TFSC with a properly operating water seal at the entrance or exit to the item to restrict ventilation in the collection system. The vent pipe shall be at least 90 cm in length and not exceeding 10.2 cm in nominal inside diameter. The lift station shall be level controlled to minimize changes in the liquid level.
4. Trench | (a) TFSC; or (b) TFSC with a vent to either a process, or to a control device meeting the requirements of § 63.139(c); or (c) If the item is vented to the atmosphere, use a TFSC with a properly operating water seal at the entrance or exit to the item to restrict ventilation in the collection system. The vent pipe shall be at least 90 cm in length and not exceeding 10.2 cm in nominal inside diameter.
5. Pipe | Each pipe shall have no visible gaps in joints, seals, or other emission interfaces.
6. Oil/water separator | (a) Equip with a fixed roof and route vapors to a process, or equip with a closed-vent system that routes vapors to a control device meeting the requirements of § 63.139(c); or (b) Equip with a floating roof that meets the equipment specifications of § 60.693 (a)(1)(i), (a)(1)(ii), (a)(2), (a)(3), and (a)(4).
7. Tank | Maintain a fixed roof and consider vents as process vents.ᶜ
ᵃ Where a tightly fitting solid cover is required, it shall be maintained with no visible gaps or openings, except during periods of sampling, inspection, or maintenance.
ᵇ Manhole includes sumps and other points of access to a conveyance system.
ᶜ A fixed roof may have openings necessary for proper venting of the tank, such as pressure/vacuum vent, j-pipe vent.

[FR Doc. 02-23260 Filed 9-19-02; 8:45 am]

BILLING CODE 6560-50-P